DEPARTMENT OF HEALTH AND HUMAN SERVICES

Administration for Children and Families

[Program Announcement No. OCS-2001-01]

Request for Applications for the Office of Community Services' Fiscal Years 2000 (Supplementary) and 2001 Discretionary Grants Programs

AGENCY: Office of Community Services, Administration for Children and Families, Department of Health and Human Services.

ACTION: Request for applications for the Office of Community Services' Discretionary Awards.

SUMMARY: The Administration for Children and Families (ACF), Office of Community Services (OCS), announces that competing applications will be accepted for new grants pursuant to the Secretary's discretionary authority under sections 680(a) of the Community Services Block Grant Act of 1981, as amended. Included in the Program Announcement are programs to be funded with FY 2001 discretionary funds (Urban and Rural Community Economic Development and Rural Community Facilities Development). Also included are programs to be funded with unobligated FY 2000 discretionary funds.

Since FY 2000 funds must be obligated by September 30, 2000 and FY 2001 funds (if appropriated) by September 30, 2001, this Program Announcement includes separate closing dates for applications for each fiscal year's funds.

Closing Date: The closing date for submission of applications for Fiscal Year 2000 funds (Sub-Priority Area 1.1A, 1.1B, and 1.3A, and 2.1A) is August 4, 2000. The closing date for submission of applications for Fiscal Year 2001 funds (Sub-Priority Areas 1.1, 1.2, 1.3, 1.4, 1.5, 1.6, and 2.1) is October 20, 2000. Mailed applications postmarked after the appropriate closing date will be classified as late.

Application Submission:

Mailing Address: Discretionary applications must be mailed to the U.S. Department of Health and Human Services, Administration for Children and Families, Office of Grants Management/OCSE, 4th Floor West, Aerospace Center, 370 L'Enfant Promenade, S.W., Washington, D.C. 20447; Attention: Discretionary Grants Program.

Submission Instructions: Mailed applications shall be considered as meeting an announced deadline if they are either received on or before the closing date or postmarked on or before the closing date and received by ACF in time for the independent review.

Applications mailed must bear a legibly dated U.S. Postal Service postmark or a legibly dated, machine produced postmark of a commercial mail service affixed to the envelope/package containing the application(s). To be deemed acceptable as proof of timely mailing, a postmark from a commercial mail service must include the logo/emblem of the commercial mail service company and must reflect the date the package was received by the commercial mail service company from the applicant. Private metered postmarks shall not be acceptable as proof of timely mailing. (Applicants are cautioned that express/overnight mail services do not always deliver as agreed.)

Applications handcarried by applicants, applicant couriers, or by other representatives of the applicant shall be considered as meeting an announced deadline if they are received on or before the closing date, between the hours of 8 a.m. and 4:30 p.m., EST, at the U.S. Department of Health and Human Services, Administration for Children and Families, Office of Grants Management/OCSE, ACF Mailroom, 2nd Floor Loading Dock, Aerospace Center, 901 D Street, SW., Washington, DC 20024, between Monday and Friday (excluding Federal holidays). The address must appear on the envelope/package containing the application with the note Attention: Discretionary Grants Program. (Applicants are again cautioned that express/overnight mail services do not always deliver as agreed.)

ACF cannot accommodate transmission of applications by fax or through other electronic media. Therefore, applications transmitted to ACF electronically will not be accepted regardless of date or time of submission and time of receipt.

Late applications: Applications that do not meet the criteria above are considered late applications. ACF shall notify each late applicant that its application will not be considered in the current competition.

Extension of deadlines: ACF may extend application deadlines when circumstances such as acts of God (floods, hurricanes, etc.) occur, or when there are widespread disruptions of the mail service. Determinations to extend or waive deadline requirements rest with ACF's Chief Grants Management Officer.

Number of Copies Required: One signed original application and four copies must be submitted at the time of the initial submission. (OMB-0970-0062, which expires 10/31/2001).

The first page of the SF-424 must contain in the lower right-hand corner, a designation indicating under which sub-priority area funds are being requested (for example UR for 1.1, URA for 1.1A, URNA for 1.1B, HB for 1.2, PD for 1.3, HPD for 1.3A, DD for 1.4, AM for 1.5, UT for 1.6, RF for 2.1, or RFA for 2.1A. See Part G, section 1, item 11 for details. (See Part C for a description of each of the sub-priority areas.)

For general questions on the announcement, Contact:

Kaaren Turner—(202) 260-5683

David Matthews—(202) 401-5271

Walter Thaxton—(202) 401-5269

Bobby Malone—(202) 401-5270

Calvin Brockington—(202) 401-5273

Debra Brown—(202) 401-3446

Thelma Woodland—(202) 401-5294

Ruth Walston—(202) 401-9340

For a copy of the announcement, Contact: Administration for Children and Families, Office of Community Services, 370 L'Enfant Promenade, SW., 5TH Floor West, Washington, DC 20447, (202) 401-9345, (202) 401-9354, (202) 401-4687 (fax).

In addition, the announcement is accessible on the OCS web site for reading or downloading at: http://www.acf.dhhs.gov/programs/ocs/kits1.htm

The Catalog of Federal Domestic Assistance number for this program is 93.570. The title is Community Services Block Grant—Discretionary Awards.

Table of Contents

Part A—Preamble

1. Legislative Authority

2. Departmental Goals

3. Definitions of Terms

Part B—Application Prerequisites

1. Eligible Applicants

2. Availability of Funds

3. Project and Budget Periods

4. Mobilization of Resources

5. Program Beneficiaries

6. Number of Projects in Application

7. Multiple Submittals

8. Subawarding Projects

9. Third Party Agreements

10. Funding Considerations

11. Prohibited Activities

Part C—Program Priority Areas

Part D—Criteria for Review and Evaluation of All Applications

1. Criteria for Review and Evaluation of All Applications Submitted Under Sub-Priority Areas 1.1, 1.1A, 1.1B, 1.2, and 1.4

2. Criteria for Review and Evaluation of Applications Submitted Under Sub-Priority Areas 1.3 and 1.3A

3. Criteria for Review and Evaluation of Applications Submitted Under Sub-Priority Area 1.5

4. Criteria for Review and Evaluation of Applications Submitted Under Sub-Priority Area 1.6

5. Criteria for Review and Evaluation of All Applications Under Sub-Priority Areas 2.1 and 2.1A

Part E—Application Procedures

1. Availability of Forms

2. Intergovernmental Review

3. Application Consideration

4. Criteria for Screening Applications

Part F—Contents of Application and Receipt Process

1. Contents of Application

2. Acknowledgment of Receipt

Part G—Instructions for Completing Application Package

1. SF-424 Application for Federal Assistance

2. SF-424A Budget Information—Non-Construction Programs

Part H—Post Award Information and Reporting Requirements

1. Notification of Grant Award

2. Attendance at OCS Training Conference

3. Reporting Requirements

4. Audit Requirements

5. Lobbying

6. Applicable Federal Regulations

Attachments

A—2000 Poverty Income Guidelines

B—Standard Form 424, Application for Federal Assistance

C—Standard Form 424A, Budget Information—Non-Construction Programs

D—Standard Form 424B, Assurances—Non-Construction Programs

E—Certification Regarding Drug-Free Workplace Requirements

F—Certification Regarding Debarment, Suspension and Other Responsibility Matters

G—State Single Point of Contact List

H—Certification Regarding Lobbying; Disclosure of Lobbying Activities, SF-LLL

I—DHHS Regulations Applying to All Applicants/Grantees Under the Fiscal Year 2000 (Supplementary) and Fiscal Year 2001 Discretionary Grants Programs

J—Certification Regarding Environmental Tobacco Smoke

K—Guidelines for a Business Plan

L—Table of Standard Industrial Codes and Occupational Classifications

M—Applicant's Checklist

Part A—Preamble

1. Legislative Authority

The Community Services Block Grant Act of 1981, as amended, (Section 680 of the Community Opportunities, Accountability, and Training and Educational Services (COATS) Act of 1998, authorizes the Secretary to make grants to provide technical and financial assistance for economic development activities designed to address the economic needs of low-income individuals and families, conduct rural community development activities and conduct neighborhood innovation projects.

2. Departmental Goals

This announcement is particularly relevant to the Departmental goal of strengthening the American family and promoting self-sufficiency. These programs have objectives of increasing the access of low-income people to employment and business development opportunities, and improving the integration, coordination, and continuity of the various HHS (and other Federal Departments') funded services potentially available to families living in poverty.

3. Definitions of Terms

For purposes of this Program Announcement, the following definitions apply:

—Budget period: The interval of time into which a grant period of assistance is divided for budgetary and funding purposes.

—Building deconstruction: The systematic disassembly of residential and commercial buildings.

—Cash contributions: The cash outlay that includes the money contributed to the project or program by the recipient and third parties.

—Community development corporation (CDC): A private, non-profit corporation, governed by a board of directors consisting of residents of the community and business and civic leaders, that has as a principal purpose planning, developing, or managing low-income housing or community development projects.

—Community economic development (CED): A process by which a community uses resources to attract capital and increase physical, commercial, and business development and job opportunities for its residents.

—Construction projects: For the purpose of this announcement, construction projects involve land improvements and development or major renovation of (new or existing) facilities and buildings, including their improvements, fixtures and permanent attachments.

—Displaced worker: An individual who is in the labor market but has been unemployed for six months or longer.

—Distressed community: A geographic urban neighborhood or rural community of high unemployment and pervasive poverty.

—Eligible applicant: (See appropriate Program Priority Area under Part C.)

—Employment education and training program: A program that provides education and/or training to welfare recipients, at-risk youth, public housing tenants, displaced workers, homeless and low-income individuals and that has demonstrated organizational experience in education and training for these populations.

—Empowerment Zones and Enterprise Communities (EZ/EC): Those communities designated as such by the Secretary of Agriculture or Housing and Urban Development.

—Equity investment: The provision of capital to a business entity for some specified purpose in return for a portion of ownership using a third party agreement as the contractual instrument.

—Indian tribe: A tribe, band, or other organized group of Indians recognized in the State in which it resides or which is considered by the Secretary of the Interior to be an Indian tribe or an Indian organization for any purpose. For the purpose of Priority Area 1.0 (Urban and Rural Community Economic Development), an Indian tribe or Indian organization is ineligible unless the applicant organization is a private non-profit community economic development corporation.

—Job creation: New jobs, i.e. jobs not in existence prior to the start of the project, that result from new business startups, business expansion, development of new services industries, and/or other newly-undertaken physical or commercial activities.

—Job placement: Placing a person in an existing vacant job of a business, service, or commercial activity not related to new development or expansion activity.

—Letter of commitment: A signed letter or agreement from a third party to the applicant that pledges financial or other support for the grant activities only subject to receiving an award of OCS grant funds.

—Loan: Money lent to a borrower under a binding pledge for a given purpose to be repaid, usually at a stated rate of interest and within a specified period of time.

—Poverty Income Guidelines: Guidelines published annually by the U.S. Department of Health and Human Services that establish the level of poverty defined as low-income for individuals and their families.

—Program income: Gross income earned by the grant recipient that is directly generated by an activity supported with grant funds.

—Project period: The total time for which a project is approved for OCS support, including any approved extensions.

—Revolving loan fund: A capital fund established to make loans whereby repayments are re-lent to other borrowers.

—Self-employment: The state of an individual or individuals who engage in self-directed economic activities.

—Self-sufficiency: The economic state not requiring public assistance for an individual and his (her) immediate family.

—Subaward: An award of financial assistance in the form of money, or property in lieu of money, made under an award by a recipient to an eligible sub-recipient or by a sub-recipient to a lower tier sub-recipient. The term includes financial assistance when provided by any legal agreement, even if the agreement is called a contract, but does not include procurement of goods and services nor does it include any form of assistance which is excluded from the definition of “award” in 45 CFR 74.2.

Note: Subawards do not include equity investments or loan transactions since they are promulgated under third party agreements.

—Technical assistance: A problem-solving event generally utilizing the services of an expert. Such services may be provided on-site, by telephone, or by other communications. These services address specific problems and are intended to assist with the immediate resolution of a given problem or set of problems.

—Temporary Assistance to Needy Families (TANF): Title I of the Personal Responsibility and Work Opportunity Reconciliation Act of 1996 (P.L. 104-193) creates the TANF program that transforms welfare into a system that requires work in exchange for time-limited assistance. The law specifically eliminates any individual entitlement to or guarantee of assistance, repeals the Aid to Families with Dependent Children (AFDC) program, Emergency Assistance (EA) and Job Opportunities and Basic Skills Training (JOBS) programs, and replaces them with a block grant entitlement to States under Title IV-A of the Social Security Act.

—Third party: Any individual, organization, or business entity that is not the direct recipient of grant funds.

—Third party agreement: A written agreement entered into by the grantee and an organization, individual or business entity (including a wholly-owned subsidiary), by which the grantee makes an equity investment or a loan in support of grant purposes.

—Third party in-kind contributions: The value of non-cash contributions provided by non-federal third parties which may be in the form of real property, equipment, supplies and other expendable property, and the value of goods and services directly benefiting and specifically identifiable to the project or program.

Part B—Application Prerequistes

1. Eligible Applicants

Priority areas included in this Program Announcement have differing eligibility requirements. Therefore, eligible applicants are identified in the narrative descriptions of each sub-priority area found in Part C. Applicant must submit proof of non-profit status in its application at the time of submission. The non-profit agency can accomplish this by providing a copy of the applicant's listing in the Internal Revenue Service's (IRS) most recent list of tax-exempt organizations described in Section 501(c)(3) of the IRS tax code. Applications that do not include proof of this status will be disqualified.

2. Availability of Funds

Appropriation Amounts

Approximately $3,900,000 in funds appropriated for FY 2000 is available.

Approximately $26,560,000 is expected to be available for FY 2001. However, all grant awards for FY 2001 are subject to the availability of appropriated funds.

The grant funding levels or ranges and the approximate number of grants to be made under each sub-priority area are indicated in the narrative description of each area in Part C.

3. Project and Budget Periods

For Sub-Priority Areas 1.1, 1.1A, 1.1B, 1.2, and 1.4, applicants with projects involving construction only may request a project period of up to 60 months and a budget period of up to 36 months. Applicants for non-construction projects under these priority areas may request project periods of up to 36 months and budget periods of up to 17 months. Applicants for Sub-Priority Areas 1.5 and 1.6 may request project and budget periods of up to 17 months. For Sub-Priority Areas 1.3 and 1.3A, applicants may request project and budget periods of up to 12 months.

For Sub-Priority Areas 2.1 and 2.1A, grantees will be funded for 24 month project periods and 12 month budget periods.

4. Mobilization of Resources

OCS encourages and strongly supports leveraging of resources through public/private partnerships that can mobilize cash and/or third-party in-kind contributions.

5. Program Beneficiaries

Projects proposed for funding under this announcement must result in direct benefits to low-income people as defined in the most recent annual revision of the Poverty Income Guidelines published by DHHS.

Attachment A to this announcement is an excerpt from the Poverty Income Guidelines currently in effect. Annual revisions of these guidelines are normally published in the Federal Register in February or early March of each year. Grantees will be required to apply the most recent guidelines throughout the project period. These revised guidelines may be obtained at public libraries, Congressional offices, or by writing the Superintendent of Documents, U.S. Government Printing Office (GPO), Washington, D.C. 20402. Also, see staff members listed under “For General Questions On the Announcement, Contact” at the beginning of this announcement.

No other government agency or privately-defined poverty guidelines are applicable for the determination of low-income eligibility for these OCS programs.

Note, however, that low-income individuals granted lawful temporary resident status under Sections 245A or 210A of the Immigration and Nationality Act, as amended by the Immigration Reform and Control Act of 1986 (Public law 99-603), may not be eligible for direct or indirect assistance based on financial need under this program for a period of five years from the date such status was granted.

6. Number of Projects in Application

All Priority Area 1.0 applications may contain only one project except for Sub-Priority Areas 1.3, 1.3A, 1.5, and 1.6. Applications that are not in compliance with this requirement may be disqualified.

7. Multiple Submittals

There is no limit to the number of applications that can be submitted under a specific program priority area as long as each application contains a proposal for a different project. However, an applicant can receive only one grant in each priority area. Also, applicants who receive more than one grant for a common budget/project period must be mindful that salaries and wages claimed for the same persons cannot collectively exceed 100% of total annual salary.

8. Subawarding Projects

OCS does not fund projects where the role of the applicant is primarily to serve as a conduit for funds through the use of subawards to other organizations. In cases where the applicant proposes to make one or more subawards, it must retain a substantive role in the implementation and operation of the project for which funding is requested.

9. Third Party Agreements

Any applicant submitting a proposal for funding under Sub-Priority Areas 1.1, 1.1A, 1.1B, 1.2, or 1.4 who proposes to use some or all of the requested OCS funds to enter into a third party agreement in order to make an equity investment (such as the purchase of stock) or a loan to an organization or business entity (including a wholly-owned subsidiary), must include in the application, along with the business plan, a copy of the signed third party agreement for approval by OCS. (See last paragraph of this section in those instances where a signed third party agreement is not available when the application is submitted.)

• A third party agreement coverinig an equity investment must contain, at a minimum, the following:

1. The type of equity transaction (e.g. stock purchase).

2. Purpose(s) for which the equity investment is being made.

3. Cost per share.

4. Number of shares being purchased.

5. Percentage of ownership of the business.

6. Number of sets on the board, if applicable.

• A third party agreement covering a loan transaction must contain, at a minimum, the following information:

1. Purpose(s) for which the loan is being made.

2. Rates of interest and other fees.

3. Terms of loan.

4. Repayment schedules.

5. Collateral security.

6. Default and collection procedures.

• All third party agreements must include written commitments as follows:

From the third party (as appropriate):

1. A minimum of 75% of the jobs to be created as a result of the injection of grant funds will be filled by low-income individuals.

2. The grantee will have the right to screen applicants for jobs to be filled by low-income individuals and to verify their eligibility.

3. If the grantee's equity investment equals 25% or more of the business's assets, the grantee will have representation on the board of directors.

4. Reports will be made to the grantee regarding the use of grant funds on a quarterly basis or more frequently, if necessary.

5. A procedure will be developed to assure that there are no duplicate counts of jobs created.

6. Detailed information will be provided on how the grant funds will be used by the third party by submitting a Source and Use of Funds Statement. In addition, the agreement must provide details on how the grantee will provide support and technical assistance to the third party in areas of recruitment and retention of low-income individuals.

From the grantee:

Detailed information on how the grantee will provide support and technical assistance to the third party in areas of recruitment and retention of low-income individuals.

• All third party agreements should be accompanied by:

(1) A signed statement from a Certified or Licensed Public Accountant as to the sufficiency of the third party's financial management system in accordance with 45 CFR 74, to protect adequately any federal funds awarded under the application.

(2) Financial statements for the third party organization for the prior three years. (If not available because the organization is a newly-formed entity, include a statement to this effect.)

(3) The third party agreement will specify how the grantee will provide oversight of the third party for the life of the agreement. Also, the agreement will specify that the third party will maintain documentation related to the grant objectives as specified in the agreement and will provide the grantee and HHS access to that documentation.

If a signed third party agreement is not available when the application is submitted, the applicant must submit as part of the narrative as much of the above-mentioned information as possible in order to enable reviewers to evaluate the proposal. It should be noted that that portion of a grant, which will be used to fund a third party agreement, will not be released until the agreement has been approved by OCS.

10. Funding Considerations

In cases where an application ranks highly and is competitive, the following may apply:

(1) When the applicant is proposing to enter into a third party agreement for all of the grant's operational funds, OCS will send a time-limited letter of intent to fund pending receipt of a signed third party agreement. Once OCS has determined that the agreement is acceptable, an award will be forwarded to the applicant.

(2) Previous performance of applicants will be considered an important determining factor in the grant award decisions.

(3) Any applicant that has three or more active OCS grants may only be funded under exceptional circumstances.

(4) Pre-award site visits may be performed for the purpose of undertaking assessments of many of these applications prior to OCS making final determinations on grant awards.

(5) OCS will consider applications that include revolving loan funds as a grant activity.

11. Prohibited Activities

OCS will not consider applications that propose the establishment of Small Business Investment Corporations or Minority Enterprise Small Business Investment Corporations.

Part C—Program Priority Areas

The program priority areas of the Office of Community Services' Discretionary Grants Program, and funds available for each sub-priority area, are as follows:

Priority Area 1.0: Urban and Rural Community Economic Development
Sub-priority areas | FY 2000 funds | FY 2001 funds
Priority Area 1.0: Urban and Rural Community Economic Development
1.1 Urban and Rural Community Economic Development (Operational) (FY 2001) |  | $17,000,000
1.1A Urban and Rural Community Economic Development (Operational) (FY 2000) | 3,000,000 |
1.1B Urban and Rural Community Economic Development (Native Americans) (FY 2000) | 300,000 |
1.2 Urban and Rural Community Economic Development (HBCU Set-Aside) (FY 2001) |  | 2,100,000
1.3 Urban and Rural Community Economic Development (Pre-Developmental Set-Aside) (FY 2001) |  | 750,000
1.3A Urban and Rural Community Economic Development (Pre-Developmental Set-Aside) (FY 2000) | 300,000 |
1.4 Urban and Rural Community Economic Development (Developmental Set-Aside) (FY 2001) |  | 2,500,000
1.5 Administrative and Management Expertise (Set-Aside) (FY 2001) |  | 500,000
1.6 Training and Technical Assistance (Set-Aside) (FY 2001) |  | 210,000
Priority Area 2.0: Rural Community Development Activities
2.1 Rural Community Facilities (Water and Waste Water Treatment Systems Development) (FY 2001) |  | 3,500,000
2.1A Rural Community Facilities (Water and Waste Water Treatment Systems Development) (FY 2000) | 300,000

Priority Area 1.0 Urban and Rural Community Economic Development

Eligible applicants are private, non-profit 501(c)(3) community development corporations (CDCs) governed by a board consisting of residents of the community and business and civic leaders that has as a principal purpose planning, developing, or managing low-income housing or community development projects.

The purpose of this priority area is to encourage the creation of projects intended to provide employment and business development opportunities for low-income people through business, physical or commercial development. Generally the opportunities must aim to improve the quality of the economic and social environment of TANF recipients; low-income residents including displaced workers; at-risk teenagers; non-custodial parents, particularly those of children receiving TANF assistance; individuals residing in public housing; individuals who are homeless; and individuals with developmental disabilities. Grant funds under this priority area are intended to provide resources to eligible applicants (CDCs) but also have the broader objectives of arresting tendencies toward dependency, chronic unemployment, and community deterioration in urban and rural areas.

Sub-Priority Area 1.5 is intended to provide administrative and management expertise to current Office of Community Services' grantees who are experiencing problems in the implementation of urban and rural community economic development projects.

Sub-Priority Area 1.6 makes funds available to provide training and technical assistance to groups of community development corporations in developing or implementing projects funded under this section; its aim is to generally enhance the viability and competence of community development corporations.

This priority area also seeks to attract additional private capital into distressed communities, including empowerment zones and enterprise communities, and to build and/or expand the ability of local institutions to better serve the economic needs of local residents.

1. Urban and Rural Community Economic Development (Operational)

a. Urban and Rural Community Economic Development (Operational—FY 2001) (Sub-Priority Area 1.1)

Funds will be provided to a limited number of private, non-profit, 501(c)(3) community development corporations for business development activities at the local level. Funding will be provided for specific projects and will require the submission of business plans or work plans, where applicable, that meet the test of economic feasibility. Attachment K should be used as a guideline for the business plan.

The applicant should select a project in an industry in its region that promotes economic sustainability and self-sufficiency for families in the low-income community.

Projects must further the Departmental goals of strengthening American families and promoting their self-sufficiency. OCS is particularly interested in receiving applications that involve public-private partnerships that are directed toward the development of economic self-sufficiency in distressed communities through projects that focus on providing employment and business development opportunities for low-income people through business startups, business expansions, development of new services industries, and/or other newly-undertaken physical and commercial activities.

Applicants are encouraged to foster partnerships with child support enforcement agencies to increase the capability of low-income non-custodial parents, particularly those of children receiving TANF assistance, to fulfill their parental responsibilities. Such applicants may request funds for a business development project or a project that demonstrates innovative ways to create jobs for low-income persons in the targeted group or community.

See other applicable requirements under 1.d., below.

Eligible organizations located in Empowerment Zones and Enterprise Communities are urged to submit applications.

For Fiscal Year 2001, it is anticipated that approximately 30 grants up to a maximum of $349,999 will be awarded and approximately 13 grants of $350,000 but not more than $500,000 will be made. Competition for these funds will be restricted to either the $349,999 and under category or the $350,000 up to $500,000 category. Applicants will compete within the category in which they fall.

b. Urban and Rural Community Economic Development (Operational—FY 2000) (Sub-Priority Area 1.1A)

Funds will be provided to a limited number of private, non-profit, 501(c)(3), community development corporations under this sub-priority area for purposes described under section 1.a (Sub-Priority Area 1.1) above.

In addition, OCS is particularly interested in receiving applications that propose a realistic plan for development of new and innovative businesses that offer genuine career and entrepreneurship opportunities to low-income non-custodial parents as well as for improving the economic infrastructure and facilities of the community. For example:

• One business sector that an applicant could consider addressing is that of the construction trades and, within it, the new and growing sub-sector of building deconstruction and materials re-use. Building deconstruction offers new opportunities for career and new enterprises and provides an excellent training ground for employment in the wider construction field where there are serious and growing shortages of trained workers throughout the United States. It also offers opportunities for significant, vertically integrated enterprise development through materials salvage, recycling, re-use and re-manufacturing.

• Another new business sector that might be considered is that of environmental justice/sustainable community development which includes businesses developed to address lead abatement in low-income dwellings; cleanup of toxic wastes or leaking underground storage tanks; treatment of low-income dwellings that combine lead abatement with weatherization and mitigation of other hazards such as asbestos or radon; installation and maintenance of alternative and renewable energy technologies in the homes of the poor; recycling; forest or watershed restoration; and urban pesticide programs designed to reduce the use of toxic pesticides in low-income communities through integrated pest management and similar techniques.

• Home health care and housekeeping care for the elderly and infirm are businesses for which there is a serious need and which can create higher than minimum wage jobs for low-income workers.

See other applicable requirements under 1.d., below.

Eligible organizations located in Empowerment Zones and Enterprise Communities are urged to submit applications.

Approximately 7 grants are anticipated to be made up to $500,000 each under this sub-priority area.

c. Urban and Rural Community Economic Development (Operational-Native Americans) (Sub-Priority Area 1.1B)

Funds will be provided to three private, non-profit, 501(c)(3), community development corporations that enter into agreements with Native American tribes to carry out business development activities, i.e. business startups, business expansions, development of new services industries, and/or other newly-undertaken physical and commercial activities, on reservations.

The Native American Tribes with which the CDCs are partnering will also be considered for FY 2000 funds from the Department of Health and Human Services' Administration for Native Americans (ANA).

The applicant should select a project that promotes economic sustainability and self-sufficiency for families on the Reservation where the project will be implemented.

An application under this sub-priority area must reflect a significant partnership role for the tribe. The application also must contain a written, signed agreement from an authorized tribal official confirming the tribe's significant involvement in the grant activities and receipt of FY 2000 funds from ANA. By entering into a partnership agreement with a tribe, the applicant will be considered to have fulfilled the goal of mobilizing non-discretionary program dollars under Criterion V, Public-Private Partnerships, item (1), and will be granted the maximum number of points (15) in that category.

See other applicable requirements under 1.d., below.

Approximately three (3) grants for $100,000 each are anticipated to be made under this sub-priority area.

d. Additional Requirements Applicable to Sub-Priority Areas 1.1,1.1A,1.1B,1.2, and 1.4

Applicants must show that the proposed project:

(1) Creates full-time permanent jobs except where an applicant demonstrates that a permanent part-time job produces actual wages that exceed the HHS poverty guidelines. Seventy-five percent (75%) of the jobs created must be filled by low-income residents of the community and also must provide for career development opportunities. Project emphasis should be on employment of individuals who are unemployed or on public assistance, with particular emphasis on those that are at-risk teenagers, TANF recipients, low-income non-custodial parents (particularly those of children receiving TANF assistance), individuals residing in public housing, and individuals who are homeless. While projected employment in future years may be included in the application, it is essential that the focus of employment projects concentrates on those permanent jobs created during the duration of the OCS project period; and/or

(2) Creates a significant number of business development opportunities for low-income residents of the community or significantly aids such residents in maintaining economically viable businesses; and

(3) Assists low-income participants to become self-sufficient.

In the evaluation process, favorable consideration will be given to applicants under this priority area that show the lowest cost-per-job created. Unless there are extenuating circumstances, OCS will not fund projects where the cost-per-job in OCS funds exceeds $15,000.

In addition, favorable consideration in the evaluation process will be given to applicants who demonstrate their intention to coordinate services with the local TANF offices and/or other employment education and training offices and child support enforcement agencies that serve the proposed area. The offices and agencies should serve welfare recipients, at-risk youth, public housing tenants, displaced workers, homeless and low-income individuals (as defined by the annual revision to the Poverty Income Guidelines published by DHHS) including non-custodial parents. Applicants should submit a written agreement from the applicable office or agency that indicates what actions will be taken to integrate/coordinate services that relate directly to the project for which funds are being requested. The agreement should include the goals and objectives (including target groups) that the applicant and the employment education and training offices and child support enforcement agencies expect to reach through their collaboration. It should describe the cooperative relationship, including specific activities and/or actions each of these entities proposes to carry out in support of the project, and the mechanism(s) to be used in coordinating those activities if the project is funded by OCS. Documentation that illustrates the organizational experience of the employment education and training offices should also be included.

OCS encourages applications that will develop linkages or agreements with local agencies responsible for administering TANF programs and child support enforcement agreements. OCS would expect these programs to create new jobs for TANF recipients and low-income non-custodial parents, particularly those of children receiving TANF assistance. These initiatives can be accomplished through a variety of business development projects funded under this priority area, i.e., business expansions, new business development and self-employment activities, etc.

OCS encourages each applicant to describe the project scope that includes the low-income community served, the business activities undertaken, and types of jobs to be created. The business activities should be described by Standard Industrial Codes (SIC) and jobs by occupational classifications. This information is published by the U.S. Department of Commerce in the Statistical Abstract of the United States, 1998, Tables No. 679 and 680. Also, applicant may use the material included in Attachment L to identify industrial areas and occupational classifications.

OCS does not fund education and training programs. In projects where participants must be trained, any funds that are proposed to be used for training purposes must be limited to providing specific job-related training to those individuals who have been selected for employment in the grant supported project which includes new business startups, business expansions, development of new service industries, and/or other newly-undertaken physical and commercial activities.

Projects involving training and placement for existing vacant positions will be disqualified.

Projects that would result in the relocation of a business from one geographic area to another with the possible displacement of employees are discouraged.

Applicants must be aware that projects funded under these sub-priority areas must be operational by the end of the project period, i.e., businesses must be in place, and low-income individuals actually employed in those businesses.

2. Urban and Rural Community Economic Development (HBCU Set-Aside)

a. Urban and Rural Community Economic Development (HBCU Set-Aside —FY 2001) (Sub-Priority Area 1.2)

Funds will be provided to a limited number of private, non-profit, 501 (c)(3) community development corporations for projects that will be carried out in conjunction with Historically Black Colleges and Universities (HBCUs), as defined in Executive Order Number 12876, dated Nov. 1, 1993, through contract or sub-grant. Such projects must conform to the purposes, requirements, and prohibitions applicable to those submitted under Sub-Priority Area 1.1.

These projects should reflect a significant partnership role for the college or university, and the applicant in doing so will be considered to have fulfilled the goals of the evaluation criterion for Public-Private Partnerships and will be granted the maximum number of points in that category. Applications for these set-aside funds that are not funded due to the limited amount of funds available may also be considered competitively within the larger pool of eligible applicants under Sub-Priority Area 1.1. Any funds that are not used under this sub-priority area due to the limited number of highly scored applications will be rolled over into Sub-Priority Area 1.1.

Any funds that are proposed to be used for training purposes must be limited to providing specific job-related training to those individuals who have been selected for employment in the grant supported project which includes new business startups, business expansions, development of new service industries, and/or other newly-undertaken physical or commercial activities.

Approximately 6 grants are anticipated to be made at $350,000 each under this sub-priority area.

3. Urban and Rural Community Economic Development (Pre-Developmental Set-Aside)

a. Urban and Rural Community Economic Development (Pre-Developmental Set-Aside—FY 2001) (Sub-Priority Area 1.3)

OCS intends in this sub-priority area to provide funds to recently-established private, non-profit, 501(c)(3), community development corporations that propose to undertake economic development activities in distressed communities.

OCS recognizes that there are a number of newly-organized non-profit community development corporations that have identified needs in their communities but have not had the staff or other resources to develop projects to address those needs. This lack of resources also might be affecting their ability to compete for funds, such as those provided under Sub-Priority Area 1.1 since their limited resources would preclude them from developing a comprehensive business plan and/or mobilizing resources.

OCS has an interest in providing support to these new entities in order to enable them to become more firmly established in their communities, thereby bringing technical expertise and new resources to previously unserved or underserved communities. Therefore, OCS is setting aside funds for grants to private, non-profit, 501(c)(3), community development corporations that have never received OCS funding and have been in existence for no more than three years, or have been in existence longer than three years but have no record of participation in economic development type projects. For the latter, a CDC must state that it has not been active. (The phrase “no participation in economic development-type projects” means an eligible applicant has not sponsored nor had any significant participation in projects that have provided employment or business development opportunities through business startups, business expansions, development of new service industries, and/or newly-undertaken physical or commercial activities.)

In addition, applicants with housing experience must not have had primary responsibility in planning, developing, and managing housing.

With funding received under this sub-priority area, CDCs may incur costs to: (1) Evaluate the feasibility of potential projects that address identified needs in the low-income community and that conform to those projects and activities allowable under Sub-Priority Areas 1.1, 1.1A, 1.1B, 1.2, and 1.4; (2) develop a business plan related to one of those projects; and (3) mobilize resources to be contributed to one of those projects, including the utilization of HBCUs.

Based on the availability of funds in Fiscal Year 2002, OCS will consider establishing a set-aside in Sub-Priority Area 1.4 to provide operational funds to those organizations that received pre-developmental grants. Grants might be for a maximum of $250,000 and competition for those funds would be restricted to those organizations that received pre-developmental grants in Fiscal Years 2000 and 2001. The business plan developed as a result of the pre-developmental grant would be submitted as part of the competitive application.

Specifically, each application for funds under this sub-priority area must include the following as part of the project narrative:

1. Description of the impact area, i.e., a description of the low-income area it proposes to address;

2. Analysis of need in the distressed community;

3. How the potential projects relate to applicant's organizational goals and previous experience (if any);

4. Project design and implementation factors including a discussion of potential projects that might be implemented to address identified needs, a strategy for conduct of feasibility studies on potential projects and quarterly work plans with specific task timelines and a self-evaluation component; and

5. Project objectives and measurable impact, i.e., a discussion of preparing a business plan on only one selected project based on results of the feasibility studies and plan for mobilization of non-discretionary dollars to implement it.

Applications that are not funded within this set-aside due to the limited amount of funds available may also be considered competitively within the larger pool of eligible applicants. Any funds that are not used under this sub-priority area due to the limited number of highly scored applications will be rolled over into another priority area.

Approximately 10 grants are anticipated to be made at $75,000 each under this sub-priority area.

b. Urban and Rural Community Economic Development (Pre-Developmental Set-Aside—FY 2000) (Sub-Priority Area 1.3A)

Projects under this sub-priority area must conform to the purposes and requirements of Sub-Priority Area 1.3. (See 3.a., above.)

OCS is interested particularly in applications from recently-established private, non-profit, 501 (c) (3), community development corporations that propose to undertake economic development activities in distressed communities in partnership with Historically Black Colleges and Universities. Such applications must reflect a significant partnership role for the college or university. Each application also must contain a written, signed agreement from an authorized HBCU official confirming the school's significant involvement in the grant activities. By entering into a partnership agreement, the applicant will be considered to have fulfilled the goal of mobilizing non-discretionary program dollars under Criterion IV, Significant and Beneficial Impact, and will be granted the maximum number of points (5) in that category.

Approximately 4 projects are anticipated to be funded at $75,000 each.

4. Urban and Rural Community Economic Development (Developmental Set-Aside) (Sub-Priority Area 1.4)

OCS intends in this sub-priority area to provide funds to organizations that received grants from OCS in Fiscal Years 1998 and 1999 under Sub-Priority Area 1.3, the pre-developmental grant program. These organizations will compete only among themselves. Such projects must conform to the purposes, requirements and prohibitions applicable to those submitted under Sub-Priority Area 1.1 including the additional requirements delineated in section 1.d., above. Applications that are not funded within this set-aside due to the limited amount of funds available may also be considered competitively within the larger pool of eligible applicants under Sub-Priority Area 1.1. Any funds that are not used under this sub-priority area due to the limited number of highly scored applications will be rolled over into Sub-Priority Area 1.1.

Approximately 10 grants are anticipated to be made at $250,000 each under this sub-priority area.

5. Administrative and Management Expertise (Set-Aside) (Sub-Priority Area 1.5)

OCS believes that one of the most effective means of assuring the successful operation of a project under the Discretionary Grants Program area is through the sharing amongst CDCs of their experiences in dealing with the day-to-day issues and challenges presented in promoting community economic development. Accordingly, OCS strongly encourages more experienced private, non-profit CDCs to share their administrative and management expertise with less experienced CDCs or with those who have encountered difficulties in operationalizing their work programs. In order to facilitate this, OCS will provide funds to one or more private, non-profit, 501(c)(3), community development corporations to assist with their efforts to enhance the management and operational capacities of the less experienced CDCs or those having difficulties.

An applicant in this sub-priority area must document its experience and capability in several of the following areas:

• Business/development;

• Micro-entrepreneurship development;

• Commercial development;

• Organizational and staff development;

• Board training;

• Business management, including strategic planning and fiscal management;

• Finance, including business packaging and financial/accounting services;

• Regulatory compliance including zoning and permit compliance;

• Incubator development;

• Tax credits and bond financing;

• Marketing.

The applicant must document staff competence or the accessibility of third party resources with proven competence. If the work program requires the significant use of third party (consultant/contractor) resources, those resources should be identified and resumes of the individuals or key organizational staff provided.

Resumes of the applicant's staff, who are to be directly involved in programmatic and administrative expertise sharing, should also be included. The applicant must document successful experience in the mobilization of resources (both cash and in-kind) from private and public sources. The applicant also must clearly state how the information learned from this project may be disseminated to other interested grantees.

OCS will share with the grantee information on other grantees seeking to benefit from such assistance. Such formal requests could also be initiated by a grantee with the concurrence of OCS. These contacts may occur on-site, by telephone, or by other methods of communication. Costs incurred in connection with participation in such activities will be borne by the recipient(s) of the OCS grant under this sub-priority area.

A grantee under this sub-priority area will be expected to disseminate results of the project via a handbook, a progress paper, evaluation reports, general manual, or seminars/workshops.

Approximately one grant is anticipated to be made at $500,000 under this sub-priority area.

6. Training and Technical Assistance (Set-Aside) (Sub-Priority Area 1.6)

Funds will be awarded for the purpose of providing training and technical assistance to strengthen the network of CDCs.

An applicant in this sub-priority area must document its experience and capability in implementing projects national in scope and have significant and relevant experiences in working with community development corporations.

OCS anticipates that the grant will be for $210,000 with a grant period not to exceed 17 months. Applicant must have the ability to collect and analyze data nationally that may benefit CDCs and be able to disseminate information to all OCS-funded grantees; publish a national directory of funding sources for CDCs (public, corporate, foundation, religious); publish research papers on specific aspects of job creation by CDCs; and design and provide information on successful projects and economic niches that CDCs can target. The applicant also will be responsible for the development of instructional programs, national conferences, seminars, and other activities to assist community development corporations.

Eligible applicants are private, non-profit, 501(c)(3), organizations. Applicants must be able to operate on a national basis and have significant and relevant experience in working with community development corporations.

Approximately one grant is anticipated to be made at $210,000 under this sub-priority area.

Priority Area 2.0 Rural Community Facilities Development

1. Rural Community Facilities (Water and Waste Water Treatment Systems Development—FY 2001) (Sub-Priority Area 2.1)

FY 2001 funds will be provided under this sub-priority area to help low-income rural communities develop the capability and expertise to establish and/or maintain affordable, adequate, and safe water and waste water treatment facilities.

Funds provided under this priority area may not be used for construction of water and waste water treatment systems or for operating subsidies for such systems, but other mobilized funds may be used for these activities. Therefore, it is suggested that applicants coordinate projects with the Farmers Home Administration (FmHA) and other Federal and state agencies to ensure that funds for hardware for local community projects are available.

Each applicant must include a full discussion of how the proposed use of funds will enable low-income rural communities to develop the capability and experience to establish and maintain affordable, adequate and safe water and waste water systems. Applicants also must discuss how they will disseminate information about water and waste water programs serving rural communities, and how they will better coordinate Federal, State, and local water and waste water program financing and development to assure improved service to rural communities.

Among the benefits that merit discussion under this sub-priority area are the number of rural communities to be provided with technical and advisory services; the number of rural poor individuals who are expected to be directly served by applicant-supported improved water and waste water systems; the decrease in the number of inadequate water systems related to applicant activity; the number of newly-established and applicant-supported treatment systems (all of the above may be expressed in terms of equivalent connection units); the increase in local capacity in engineering and other areas of expertise; and the amount of non-discretionary program dollars expected to be mobilized.

Eligible applicants are multi-state, regional private, non-profit, 501(c)(3), organizations that can provide training and technical assistance to small, rural communities in meeting their community facility needs.

Approximately eight (8) grants are anticipated to be made ranging from $300,000 to $533,000 each under this sub-priority area.

2. Rural Community Facilities (Water and Waste Water Treatment Systems Development—FY 2000) (Sub-Priority Area 2.1A)

Projects proposed for funding under this sub-priority area must conform to the requirements, purposes, and prohibitions cited under Sub-Priority Area 2.1. (See 1., above.)

One grant of approximately $300,000 is anticipated to be made under this sub-priority area.

Part D—Criteria for Review and Evaluation of all Applications

1. Criteria for Review and Evaluation of All Applications Submitted Under Sub-Priority Areas 1.1, 1.1A, 1.1B, 1.2, and 1.4

a. Criterion I: Analysis of Need (Maximum: 5 Points)

The application documents that the project addresses a vital need in a distressed community. (0-3 points)

Most recent available statistics and other information are provided in support of its contention. (0-2 points)

b. Criterion II: Organizational Experience in Program Area and Staff Responsibilities (Maximum: 25 Points)

(1) Organizational experience in program area (sub-rating: 0-15 points). Documentation provided indicates that projects previously undertaken have been relevant and effective and have provided permanent benefits to the low-income population. (0-5 points)

The applicant has demonstrated the ability to implement major activities in such areas as business development, commercial development, physical development, or financial services; the ability to mobilize dollars from sources such as the private sector (corporations, banks, etc.), foundations, the public sector (including state and local governments) or individuals; that it has a sound organizational structure and proven organizational capability; and that it has an ability to develop and maintain a stable program in terms of business, physical, or community development activities that will provide needed permanent jobs, services, business development opportunities, and other benefits to community residents. (0-10 points)

(2) Staff skills, resources and responsibilities (sub-rating 0-10 points). The application describes in brief resume form the experience and skills of the project director who is not only well qualified, but whose professional capabilities are relevant to the successful implementation of the project. If the key staff person has not yet been identified, the application contains a comprehensive position description that indicates that the responsibilities to be assigned to the project director are relevant to the successful implementation of the project. (0-5 points)

The applicant has adequate facilities and resources (i.e. space and equipment) to successfully carry out the work plan. (0-2 points)

The assigned responsibilities of the staff are appropriate to the tasks identified for the project and sufficient time of senior staff will be budgeted to assure timely implementation and cost effective management of the project. (0-3 points)

c. Criterion III: Project Implementation (Maximum: 25 Points)

The business plan or work plan, where applicable, is both sound and feasible. The plan describes the key work tasks and shows how the project objectives will be accomplished including the development of businesses and creation of jobs for low-income persons during the allowable OCS project period. The project is responsive to the needs identified in the Analysis of Need. (0-5 points)

It sets forth realistic quarterly time targets by which the various work tasks would be completed. (0-5 points)

Critical issues or potential problems that might impact negatively on the project are defined and the project objectives can be reasonably attained despite such potential problems. (0-5 points)

The application contains a full and accurate description of the proposed use of the requested financial assistance.

If the applicant is applying for funding under Sub-Priority Area 1.1A, the work plan describes a new and innovative business project.

If the applicant proposes to make an equity investment or a loan to an individual, organization, or business entity (including a wholly-owned subsidiary), the application includes a signed third party agreement; a signed statement by a Certified or Licensed Public Accountant, as to the sufficiency of the third party's financial management system; and financial statements for the third party's prior three years of operation. (If newly formed and unable to provide the information regarding the prior three years of operation, a statement to that effect is included.) If the applicant states that an agreement is not currently in place, the application contains in the narrative as much information required for third party agreements as is available. (See Part B, item 9.)

Also, if the project proposes the development of a new or expanded business, service, physical or commercial activity, the application addresses applicable elements of a business plan. Guidelines for a Business Plan are included in Attachment K.

The financial plan element, which indicates the project's potential and timetable for financial self-sufficiency, is included. It includes for the applicant and the third party, if appropriate, the following exhibits for the first three years (on a quarterly basis) of the business' operations: Profit and Loss Forecasts, Cash Flow Projections, and Proforma Balance Sheets. Based on these documents, the application also contains an analysis of the financial feasibility of the project. Also, a Source and Use of Funds statement for all project funding is included. (0-10 points)

d. Criterion IV: Significant and Beneficial Impact (Maximum: 20 Points)

(1) Significant and beneficial impact (sub-rating: 0-5 points). The proposed project will produce permanent and measurable results that will reduce the incidence of poverty and TANF assistance in the community. (0-3 points)

The OCS grant funds, in combination with private and/or other public resources, are targeted into low-income communities, distressed communities, and/or designated Empowerment Zones and Enterprise Communities. (0-2 points)

(2) Community empowerment consideration and partnership with child support enforcement agency (sub-rating: 0-5 points). The applicant is located in an area that is characterized by poverty and other indicators of socio-economic distress such as a poverty or TANF assistance rate of at least 20%, designation as an Empowerment Zone or Enterprise Community (EZ/EC), high levels of unemployment, high levels of incidences of violence, gang activity, crime, drug use, and low-income non-custodial parents of children receiving TANF. (0-3 points)

Applicant has documented that it was involved in the preparation and implementation of a comprehensive community-based strategic plan to achieve both economic and human development in an integrated manner; and how the proposed project will support the goals of that plan. Also applicant documents that it has entered into partnership agreements with the local TANF and/or other employment education and training office and/or child support enforcement agency to increase capability of low-income parents and families to fulfill their parental responsibilities. (0-2 points)

Note: Applicants who have projects located in EZ/EC target areas or those who have included signed current agreements with child support enforcement agencies will automatically receive the maximum 2 points.

(3) Cost-per-job (sub-rating: 0-5 points). During the project period, the proposed project will create new, permanent jobs or maintain permanent jobs for low-income residents at a cost-per-job below $15,000 in OCS funds unless there are extenuating circumstances, e.g., Alaska where the cost of living is much higher.

Note: The maximum number of points will be given to those applicants proposing estimated cost-per-job for low-income residents of $10,000 or less of OCS requested funds. Higher cost-per-job estimates will receive correspondingly fewer points unless adequately justified by extenuating circumstances.

(4) Career development opportunities (sub-rating: 0-5 points). The applicant documents that the jobs to be created for low-income people have career development opportunities that will promote self-sufficiency.

e. Criterion V: Public-Private Partnerships (Maximum: 20 Points)

(1) Mobilization of resources: (sub-rating: 15 points). The application documents that the applicant will mobilize from public and/or private sources cash and/or in-kind contributions valued at an amount equal to the OCS funds requested.

Cash resources such as cash or loans contributed from all project sources (except for those contributed directly by the applicant) are documented by letters of commitment from third parties making the contribution. Third party in-kind contributions such as equipment or real property contributed by the applicant or third parties are documented by an inventory for equipment and a copy of deed or other legal document for real property.

Note 1: Applicants documenting that the value of such contributions will be at least equal to the OCS funds requested will receive the maximum number of points for this sub-criterion. Lesser contributions will be given consideration based upon the value documented.

Note 2: Future or projected program income such as gross or net profits from the project or business operations will not be recognized as mobilized or contributed resources.

Note 3: Applicants under Sub-Priority Area 1.1B who have a signed, written agreement for a significant partnership role with a Native American tribe or under Sub-Priority Area 1.2 who have a signed, written agreement for a significant partnership role with Historically Black Colleges and Universities, are deemed to have fully met this criterion and will receive the maximum number of points if they submit the agreement along with the application.

(2) Integration/coordination of services: (sub-rating: 5 points). The applicant demonstrates a commitment to or agreements with local agencies responsible for administering child support enforcement, employment education, and training programs to ensure that welfare recipients, at-risk youth, displaced workers, public housing tenants, homeless and low-income individuals, and low-income non-custodial parents will be trained and placed in the newly created jobs. The applicant provides written agreements from the local TANF or other employment education and training offices and child support enforcement agency indicating what actions will be taken to integrate/coordinate services that relate directly to the project for which funds are being requested. (0-2 points)

The agreements include: (1) The goals and objectives that the applicant and the TANF or other employment education and training offices and/or child support enforcement agency expect to achieve through their collaboration; (2) the specific activities/actions that will be taken to integrate/coordinate services on an on-going basis; (3) the target population that this collaboration will serve; (4) the mechanism(s) to be used in integrating/coordinating activities; (5) how those activities will be significant in relation to the goals and objectives to be achieved through the collaboration; and (6) how those activities will be significant in relation to their impact on the success of the OCS-funded project. (0-2 points)

The applicant also provides documentation that illustrates the organizational experience related to the employment education and training program. (Refer to Criterion II for guidelines.) (0-1 point)

f. Criterion VI: Budget Appropriateness and Reasonableness (Maximum: 5 Points)

Funds requested are commensurate with the level of effort necessary to accomplish the goals and objectives of the project. (0-2 points)

The application includes a detailed budget breakdown for each of the budget categories in the SF-424A. The applicant presents a reasonable administrative cost. (0-2 points)

The estimated cost to the government of the project also is reasonable in relation to the anticipated results. (0-1 point)

2. Criteria for Review and Evaluation of Applications Submitted Under Sub-Priority Area 1.3 and 1.3A

a. Criterion I: Analysis of Need (Maximum: 15 Points)

The application documents that there are clearly identified needs in a low-income community not being effectively addressed. (0-10 points)

Most recent available statistics and other information are provided in support of its contention. (0-5 points)

b. Criterion II: Organizational Capability and Capacity (Maximum: 20 Points)

(1) Organizational experience in program area (sub-rating: 5 points). The applicant show why its organization can successfully implement the project for which it is requesting funds. (0-5 points)

(2) Management capacity (sub-rating: 5 points). Applicant fully details its ability to implement sound and effective management practices and if it has been a recipient of other Federal or other governmental grants, it also details that it has consistently complied with financial and program progress reporting and audit requirements. (0-3 points)

Applicant has submitted available documentation on its management practices and progress reporting procedures along with a statement by a Certified or Licensed Public Accountant as to the sufficiency of the applicant's financial management system to protect adequately any Federal funds awarded under the application submitted. (0-2 points)

Note: The documentation of the applicant's management practices, etc., and statement from the accountant on the financial management system must address the applicant organization's own internal system rather than an external system of an affiliate, partner, management support organization, etc.

(3) Staffing (sub-rating: 5 points). The application fully describes (e.g., resumes) the experience and skills of key staff showing that they are not only well qualified but that their professional capabilities are relevant to the successful implementation of the project.

(4) Staffing responsibilities (sub-rating: 5 points). The application describes how the assigned responsibilities of the staff are appropriate to the tasks identified for the project.

c. Criterion III: Project Design, Implementation and Evaluation (Maximum: 30 Points)

(1) Project implementation component (sub-rating: 25 points). The work plan addresses a clearly identified need in the low-income community as described in Criterion I. The plan must include a methodology to evaluate the feasibility of potential projects that conform to the type of projects and activities allowable under Sub-Priority Areas 1.1, 1.1A, 1.1B, 1.2, and 1.4. (0-8 points)

The work plan discusses the preparation of a business plan on one selected project based on the results of the feasibility studies and a plan for mobilization of non-discretionary funds to implement the business plan. (0-4 points)

It sets forth realistic quarterly time schedules of work tasks by which the objectives (including the development of a business plan and mobilization of resources) will be accomplished.

Note: Because quarterly time schedules are used by OCS as a key instrument to monitor progress, failure to include these time targets will seriously reduce an applicant's point score in this criterion.

(0-8 points)

It defines critical issues or potential problems that might impact negatively on the project and it indicates how the project objectives will be attained notwithstanding any such potential problems. (0-5 points)

(2) Evaluation component (sub-rating: 5 points). The proposal includes a self-evaluation component. The evaluation data collection and analysis procedures are specifically oriented to assess the degree to which the stated goals and objectives are achieved. (0-3 points)

Qualitative and quantitative measures reflective of the scheduling and task delineation in (1) above are used to the maximum extent possible. This component indicates the ways in which the potential grantee would integrate qualitative and quantitative measures of accomplishment and specific data into its program progress reports that are required by OCS from all organizations receiving pre-developmental grants. (0-2 points)

d. Criterion IV: Significant and Beneficial Impact (Maximum: 25 Points)

The proposed project around which the business plan is to be developed with the use of OCS grant funds is targeted into low-income communities, and/or designated Empowerment Zones or Enterprise Communities with the goals of increasing the economic conditions and social self-sufficiency of residents. Also, the project proposes to produce permanent and measurable results that will reduce the incidence of poverty and number of TANF recipients in the low-income area targeted. (0-20 points)

Note: This sub-priority area permits applicants to conduct several feasibility studies related to various potential projects. However, on completion of the studies, one proposed project must be selected and a business plan prepared for the selected project.

The activity targets mobilization of non-discretionary program dollars from private sector individuals, public resources, corporations, and foundations including the utilization of Historically Black Colleges and Universities, if the proposed project is implemented. (0-5 points)

Note: An applicant under Sub-Priority Area 1.3A who has submitted a signed, written agreement for a significant partnership role with an HBCU is deemed to have fully met this sub-criterion and should receive the maximum five points.

e. Criterion V: Budget Appropriateness and Reasonableness (Maximum: 10 points)

Funds requested are commensurate with the level of effort necessary to accomplish the goals and objectives of the project. The estimated cost to the government of the project also is reasonable in relation to the anticipated results. (0-5 points)

The application includes a narrative detailed budget breakdown for each of the budget categories in the SF 424-A. The applicant presents a reasonable administrative cost. (0-5 points)

3. Criteria for Review and Evaluation of Applications Submitted Under Sub-Priority Area 1.5

a. Criterion I: Organizational Experience in Program Area and Staff Responsibilities (Maximum: 20 Points)

(1) Organizational experience in program area (sub-rating: 0-10 points). Applicant has documented the capability to provide leadership in solving long-term and immediate problems locally and/or nationally in such areas as business development, commercial development, organizational and staff development, board training, and micro-entrepreneurship development. (0-2 points)

Applicant documents a capability (including access to a network of skilled individuals and/or organizations) in two or more of the following areas: Business management, including strategic planning and fiscal management; finance, including development of financial packages and provision of financial/accounting services; and regulatory compliance, including assistance with zoning and permit compliance. (0-2 points)

The applicant has the demonstrated ability to mobilize dollars from sources such as the private sector (corporations, banks, foundations, etc.) and the public sector, including state and local governments. (0-2 points)

Applicant also demonstrates that it has a sound organizational structure and proven organizational capability as well as an ability to develop and maintain a stable program in terms of business, physical or community development activities that have provided permanent jobs, services, business development opportunities, and other benefits to poverty community residents. (0-2 points)

Applicant indicates why it feels that its successful experiences would be of assistance to existing grantees that are experiencing difficulties in implementing their projects. (0-2 points)

(2) Staff skills, resources and responsibilities (sub-rating 0-10 points). The application describes in brief resume form the experience and skills of the project director who is not only well qualified, but who has professional capabilities relevant to the successful implementation of the project. If the key staff person has not yet been identified, the application contains a comprehensive position description that indicates that the responsibilities to be assigned to the project director are relevant to the successful implementation of the project. (0-5 points)

The applicant has adequate facilities and resources (i.e. space and equipment) to successfully carry out the work plan. (0-3 points)

The assigned responsibilities of the staff are appropriate to the tasks identified for the project and sufficient time of senior staff will be budgeted to assure timely implementation and cost effective management of the project. (0-2 points)

b. Criterion II: Work Program (Maximum: 30 Points)

The applicant demonstrates in some specificity a thorough understanding of the problems a grantee may encounter in implementing a successful project. (0-15 points)

The application includes a strategy for assessing the specific nature of the problems, outlining a course of action and identifying the resources required to resolve the problems. (0-15 points)

c. Criterion III: Significant and Beneficial Impact (Maximum: 30 Points)

Project funds under this sub-priority area are to be used for the purposes of transferring expertise directly, or by a contract with a third party, to other OCS funded grantees. Applicant describes how the success or failure of collaboration with these grantees will be documented. (0-15 points)

Applicant demonstrates an ability to disseminate results on the kinds of programmatic and administrative expertise transfer efforts in which it participated and successful strategies that it may have developed to share expertise with grantees during the grant period. (0-10 points)

Applicant states whether the results of the project will be included in a handbook, a progress paper, an evaluation report, a general manual, or seminars/workshops, and why the particular methodology chosen would be most effective. (0-5 points)

d. Criterion IV: Public-Private Partnerships (Maximum: 15 Points)

Applicant demonstrates how it will design a comprehensive strategy that makes use of other available resources to resolve typical and recurrent grantee problems.

e. Criterion V: Budget Appropriateness and Reasonableness (Maximum: 5 Points)

Applicant documents that the funds requested are commensurate with the level of effort necessary to accomplish the goals and objectives of the project. The application includes a detailed budget breakdown for each of the appropriate budget categories in the SF-424A. (0-3 points)

The estimated cost to the government of the project also is reasonable in relation to the anticipated results. (0-2 points)

4. Criteria for Review and Evaluation of Applications Submitted Under Sub-Priority Area 1.6

a. Criterion I: Need for Assistance (Maximum: 10 Points)

The application documents that the project addresses a vital, nationwide need related to the purposes of Priority Area 1.0 and provides data and information in support of its contention.

b. Criterion II: Organizational Experience in Program Area and Staff Responsibilities (Maximum: 20 Points)

(1) Organizational experience. Applicant has documented the capability to provide leadership in solving long-term and immediate problems locally and/or nationally in such areas as business development, commercial development, organizational and staff development, board training, and micro-entrepreneurship development. Applicant documents a capability (including access to a network of skilled individuals and/or organizations) in two or more of the following areas: Business management, including strategic planning and fiscal management; finance, including development of financial packages and provision of financial/accounting services; and regulatory compliance, including assistance with zoning and permit compliance. (0-10 points)

(2) Staff skills. The applicant's proposed project director and primary staff are well qualified and their professional experiences are relevant to the successful implementation of the proposed project. (0-10 points)

c. Criterion III: Work Plan (Maximum: 35 Points)

The applicant has submitted a detailed and specific work plan that is both sound and feasible. Specifically, the work plan:

(1) Demonstrates that all activities are comprehensive and nationwide in scope, adequately described, and appropriately related to the goals of the program. (0-10 points)

(2) Demonstrates in some specificity a thorough understanding of the kinds of training and technical assistance that can be provided to the network of community development corporations. (0-10 points)

(3) Delineates the tasks and sub-tasks involved in the areas necessary to carry out the responsibilities, i.e. training, technical assistance, research, outreach, seminars, etc. (0-5 points)

(4) States the intermediate and end products to be developed by task and sub-task. (0-5 points)

(5) Provides realistic time frames and a chronology of key activities for the goals and objectives. (0-5 points)

d. Criterion IV: Significant and Beneficial Impact (Maximum: 25 Points)

Project funds will be used for the purpose of providing training and technical assistance on a national basis to the network of community development corporations.

The applicant describes how:

(1) The project will assure long-term program and management improvements for community development corporations. (0-10 points)

(2) The project will impact on a significant number of community development corporations. (0-10 points)

(3) The project will leverage or mobilize significant other non-federal resources for the direct benefit of the project. (0-5 points)

e. Criterion V: Budget Reasonableness (Maximum: 10 Points)

(1) The resources requested are reasonable and adequate to accomplish the project. (0-5 points)

(2) Total costs are reasonable and consistent with anticipated results. (0-5 points)

5. Criteria for Review and Evaluation of All Applications Under Sub-Priority Areas 2.1 and 2.1A

a. Criterion I: Analysis of Need (Maximum: 5 Points)

The application documents that the project addresses a vital need in a distressed community and provides statistics and other data and information in support of its contention.

b. Criterion II: Organizational Experience in Program Area and Staff Responsibilities (Maximum: 15 Points)

(1) Organizational Experience in Program Area (sub-rating: 0-5 points)

Documentation provided indicates that projects previously undertaken have been relevant and effective and have provided permanent benefits to the low-income population.

Organizations that propose providing training and technical assistance have detailed competence in the specific program priority area and as a deliverer with expertise in the fields of training and technical assistance. If applicable, information provided by these applicants also addresses related achievements and competence of each cooperating or sponsoring organization.

(2) Staff Skills, Resources and Responsibilities (sub-rating 0-10 points). The application describes in brief resume form the experience and skills of the project director who is not only well qualified, but whose professional capabilities are relevant to the successful implementation of the project. If the key staff person has not yet been identified, the application contains a comprehensive position description that indicates that the responsibilities to be assigned to the project director are relevant to the successful implementation of the project. The applicant has adequate facilities and resources (i.e. space and equipment) to successfully carry out the work plan. The assigned responsibilities of the staff are appropriate to the tasks identified for the project and sufficient time of senior staff will be budgeted to assure timely implementation and cost effective management of the project.

c. Criterion III: Project Implementation (Maximum: 25 Points)

The work plan is both sound and feasible. The project is responsive to the needs identified in the Analysis of Need. It sets forth realistic quarterly time targets by which the various tasks will be completed. Critical issues or potential problems that might impact negatively on the project are defined and the project objectives can be reasonably attained despite such potential problems.

d. Criterion IV: Significant and Beneficial Impact (Maximum: 30 Points)

The application contains a full and accurate description of the proposed use of the requested financial assistance. The proposed project will produce permanent and measurable results that will reduce the incidence of poverty in the areas targeted and significantly enhance the self-sufficiency of program participants. Results are quantifiable in terms of program area expectations, e.g., number of units of housing rehabilitated, agricultural and non-agricultural job placements, etc. The OCS grant funds, in combination with private and/or other public resources, are targeted into low-income and/or distressed communities and/or designated Empowerment Zones and Enterprise Communities.

e. Criterion V: Public-Private Partnerships (Maximum: 20 Points)

The application documents that the applicant will mobilize from public and/or private sources cash and/or in-kind contributions valued at an amount equal to the OCS funds requested.

Note: Applicants documenting that the value of such contributions will be at least equal to the OCS funds requested will receive the maximum number of points for this Criterion. Lesser contributions will be given consideration based upon the value documented.

f. Criterion VI: Budget Appropriateness and Reasonableness (Maximum: 5 Points)

Funds requested are commensurate with the level of effort necessary to accomplish the goals and objectives of the project. The application includes a narrative detailed budget break-down for each of the budget categories in the SF-424A. The applicant presents a reasonable administrative cost. The estimated cost to the government of the project also is reasonable in relation to the anticipated results.

Part E—Application Procedures

1. Availability of Forms

For purposes of this announcement, all applicants will use the following forms:

SF 424

SF 424A

SF 424B

Applications proposing construction projects will present all required financial data using SF-424A. Instructions for completing the SF-424, SF-424A, and SF-424B are found in Attachments B, C, and D. These forms may be photocopied for this application.

Part F contains instructions for the project abstract and project narrative. They should be submitted on plain bond paper along with the SF-424 and related forms.

Attachment M, Applicant's Checklist, provides a checklist to aid applicants in preparing a complete application package for OCS.

The applicant must be aware that in signing and submitting the application for this award, it is certifying that it will comply with the Federal requirements concerning the following regulations: Drug-free workplace, Attachment E; Debarment, Attachment F; and Environmental Tobacco Smoke, Attachment J.

2. Intergovernmental Review

This program is covered under Executive Order 12372, Intergovernmental Review of Federal Programs, and 45 CFR Part 100, Intergovernmental Review of Department of Health and Human Services Programs and Activities. Under the Order, states may design their own processes for reviewing and commenting on proposed Federal assistance under covered programs.

As of October 5, 1999 the following jurisdictions have elected NOT to participate in the Executive Order process. Applicants from these jurisdictions or for projects administered by Federally-recognized Indian tribes need take no action in regard to E. O. 12372:

Alabama, Alaska, Colorado, Connecticut, Hawaii, Idaho, Kansas, Louisiana, Massachusetts, Minnesota, Montana, Nebraska, New Jersey, Ohio, Oklahoma, Oregon, Pennsylvania, South Dakota, Tennessee, Vermont, Virginia, Washington, American Samoa and Palau.

Applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Standard Form 424, item 16a, and submit a copy of the letter along with its application to OCS.

Under 45 CFR 100.8(a)(2), a SPOC has 60 days from the application deadline date to comment on proposed new or competing continuation awards.

The SPOCs are encouraged to eliminate the submission of routine endorsements as official recommendations. Additionally, SPOCs are requested to clearly differentiate between mere advisory comments and those official state process recommendations which they intend to trigger the “accommodate or explain” rule.

When comments are submitted directly to ACF, they should be addressed to: Department of Health and Human Services, Administration for Children and Families, Office of Grants Management/OCSE, 4th Floor West, Aerospace Center, 370 L'Enfant Promenade, SW., Washington, DC 20447.

A list of the Single Points of Contact for each state and territory is included as Attachment G of this announcement.

3. Application Consideration

Applications that meet the screening requirements in sections 4.a and 4.b below may be reviewed competitively. Such applications will be referred to reviewers for a numerical score and explanatory comments based solely on responsiveness to program priority area guidelines and evaluation criteria published in this announcement.

Applications submitted under all priority areas (with the exception of Sub-Priority Area 1.6) will be reviewed by persons outside of the Office of Community Services. The results of these reviews will assist the Director and OCS program staff in considering competing applications.

Reviewers' scores will weigh heavily in funding decisions but will not be the only factors considered. Applications generally will be considered in order of the average scores assigned by reviewers. However, highly ranked applications are not guaranteed funding since the Director may also consider other factors deemed relevant including, but not limited to, the timely and proper completion of projects funded with OCS funds granted in the last five (5) years; comments of reviewers and government officials; staff evaluation and input; geographic distribution; previous program performance of applicants; compliance with grant terms under previous DHHS grants; audit reports; investigative reports; and applicant's progress in resolving any final audit disallowances on previous OCS or other Federal agency grants.

Applicants with three or more active OCS grants at the time of review may be denied funding. In addition, for applications received under 1.0, OCS will consider the geographic distribution of funds among states and the relative proportion of funding among rural and urban areas in accordance with Section 680(a)(2)(D) of the CSBG Act.

OCS reserves the right to discuss applications with other Federal or non-Federal funding sources to ascertain the applicant's performance record.

4. Criteria for Screening Applications

a. Initial screening. All applications that meet the published deadline for submission will be screened to determine completeness and conformity to the requirements of this announcement. Only those applications meeting the following requirements will be reviewed and evaluated competitively. Others will be returned to the applicants with a notation that they were unacceptable.

(1) The application must contain an Application for Federal Assistance (SF-424), a budget (SF-424A), and signed Assurances (SF-424B) completed according to instructions published in Parts F and G and Attachments B, C, and D of this Program Announcement.

(2) A project abstract must also accompany the standard forms.

(3) The SF-424 and the SF-424B must be signed by an official of the organization applying for the grant who has authority to obligate the organization legally.

(4) While there is no limit to the number of applications that can be submitted under a specific program priority area, each application must be submitted for consideration under one priority area only.

b. Pre-review. Applications that pass the initial screening will be forwarded to reviewers and/or OCS staff prior to the programmatic review to verify that the applications comply with this Program Announcement in the following areas:

(1) Eligibility: Applicant meets the eligibility requirements for the sub-priority area under which funds are being requested. Proof of non-profit status, i.e. the IRS determination letter of tax exemption, must be included in the appendices of the project narrative where applicable. Applicants that do not submit proof of non-profit status will be disqualified. Applicants must also be aware that the applicant's legal name as required in SF-424 (Item 5) must match that listed as corresponding to the Employer Identification Number (Item 6).

(2) Number of Projects: An application may contain only one project under Sub-Priority Areas 1.1, 1.1A, 1.1B, 1.2, and 1.4. However, an application may contain more than one project under Sub-Priority Areas 1.3, 1.3A, 1.5, and 1.6 where applicants are researching various opportunities, sharing administrative and management expertise with current OCS grantees, and providing training and/or technical assistance to current OCS grantees, including the organization of seminars and other activities to assist community development corporations.

(3) Grant amount: The amount of funds requested does not exceed the limits indicated in the appropriate sub-priority area.

(4) Written Agreement When Applicant Proposes to Make Equity Investment or Loan: (Sub-Priority Areas 1.1, 1.1A, 1.1B, 1.2, and 1.4): The application contains a written third party agreement, or a discussion of a proposed agreement, signed by the applicant and the third party that includes all of the elements required in Part B, item 9.

An application will be disqualified if it does not conform to one or more of the above requirements.

c. Panel reviews. Applications that pass the pre-rating review will be assessed and scored by panels of reviewers. Each reviewer will give a numerical score for each application reviewed. These numerical scores will be supported by explanatory statements on a formal rating form describing major strengths and weaknesses under each applicable criterion published in the announcement.

The panelists will use the criteria found in Part D along with the specific requirements contained under each program sub-priority area as described in Part C.

Part F—Contents of Application and Receipt Process

1. Contents of Application

Each submission should include one signed original and four additional copies of the application. The application package including the narrative should not exceed 65 pages for the applications submitted under Sub-Priority Areas 1.1, 1.1A, 1.1B, 1.2, and 1.4 and 30 pages under the other sub-priority areas. This does not include appendices listed below. Application pages should be numbered sequentially throughout the application package, beginning with an abstract of the proposed project as page number one. Each application must include all of the following, in the order listed below:

a. Table of Contents.

b. A Project Abstract—A paragraph that succinctly describes the project in 500 characters or less.

c. Completed Standard Form 424—(Attachment B)—that has been signed by an official of the organization applying for the grant who has authority to obligate the organization legally.

d. A Standard Form 424A—Budget Information—Non-Construction Programs (Attachment C).

e. A narrative budget justification for each object class category required under Section B, SF-424A (Attachment C).

f. A Project Narrative. The project narrative must address the specific concerns mentioned under the relevant priority area description in Part C. The narrative should also provide information on how the application meets the evaluation criteria in Part D and Guidelines for a Business Plan (Attachment K) of the Program Announcement.

g. A Standard Form 424B Assurances—Non-Construction (Attachment D)—All applicants, whether or not their project involves construction, must sign and submit the Standard Form 424B with their applications.

h. Certification Regarding Lobbying—(Attachment H)—Applicant must sign and return an executed copy of the lobbying certification.

i. Disclosure of Lobbying Activities, SF-LLL (Attachment H)—Fill out, sign and date the form.

j. DHHS Regulations Applying to All Applicants/Grantees Under the Fiscal Year 2000 (Supplementary) and 2001 Discretionary Grants Program (Attachment I)—By signing and submitting the application, applicant is certifying that it will comply with these regulations.

k. Certification Regarding Environmental Tobacco Smoke (Attachment J)—Applicant must make the appropriate certification of their compliance with the Pro-Children Act of 1994. By signing and submitting the application, applicant is providing the certification regarding environmental tobacco smoke and need not mail back the certification with their applications.

l. Certification Regarding Drug-Free Workplace Requirement (Attachment E): By signing and submitting the application, applicant is certifying that it will comply with this regulation.

m. Certification Regarding Debarment, Suspension, and Other Responsibility Matters: By signing and submitting the application, applicant is certifying that it will comply with this regulation.

n. Appendices should include: Proof of non-profit status [a copy of the applicant's listing in the Internal Revenue Service's (IRS) most recent list of tax-exempt organizations described in Section 501(c)(3) of the IRS Code or a copy of the currently valid IRS tax exemption certificate]; a copy of the Articles of Incorporation bearing the seal of the State in which the corporation or association is domiciled; a listing of the current Board of Directors' names, titles and addresses (Note: If the applicant is proposing an equity transaction, this is also needed for the third party organization.); resumes of the project director and other key management team members; written agreements, i.e., third party agreements, coordination with TANF, etc.; a copy of the submission to the State Single Point of Contact, if applicable; Single Point of Contact comments, where applicable; certification regarding anti-lobbying activities; and a disclosure of lobbying activities.

2. Acknowledgment of Receipt

All applicants will receive an acknowledgment notice with an assigned identification number. Applicants are requested to supply a self-addressed mailing label with their application that can be attached to this acknowledgment notice. The identification number and the program priority area letter code must be referred to in all subsequent communications with OCS concerning the application. If an acknowledgment is not received within three weeks after the deadline date, please notify ACF by telephone at (202) 401-5103.

Note: To facilitate receipt of this acknowledgment from ACF, applicant should include a cover letter with the application containing an E-mail address and facsimile (FAX) number if these items are available to applicant.

Part G—Instructions for Completing Application Package

It is suggested that the applicant reproduce the SF-424 and SF-424A, and type its organization's legal name on the copies. If an item on the SF-424 cannot be answered or does not appear to be related or relevant to the assistance requested, write NA for Not Applicable.

Prepare your application in accordance with the standard instructions given in Attachments B and C corresponding to the forms, as well as the OCS specific instructions set forth below:

1. SF-424 Application for Federal Assistance

Item 1. For the purposes of this announcement, all proposals are considered Applications; there are no Pre-Applications. For the purpose of this announcement, construction projects involve land improvements and development or major renovation of (new or existing) facilities and buildings, including their improvements, fixtures and permanent attachments. All others are considered non-construction. Check the appropriate box under Application. Whether applications involve construction or non-construction projects, all applicants are required to complete the Budget Information—Non-construction Programs sections of SF-424A.

Items 5 and 6. The legal name of the applicant must match that listed as corresponding to the Employer Identification Number. Where the applicant is a previous Department of Health and Human Services grantee, enter the Central Registry System Employee Identification Number (EIN) and the Payment Identifying Number (PIN), if one has been assigned, in the block entitled Federal Identifier located at the top right hand corner of the form.

Item 7. If the applicant is a non-profit corporation, enter N in the box and specify non-profit corporation in the space marked Other. Any non-profit organization submitting an application must submit proof of its non-profit status in its applications at time of submission.

Item 9. Enter DHHS-ACF/OCS.

Item 10. The Catalog of Federal Domestic Assistance number for OCS programs covered under this announcement is 93.570. The title is CSBG Discretionary Awards.

Item 11. In addition to a brief descriptive title of the project, indicate one of the following program priority areas for which funds are being requested.

UR—Sub-Priority Area 1.1. Urban and Rural Community Economic Development (Operational—FY 2001)

URA—Sub-Priority Area 1.1A. Urban and Rural Community Economic Development (Operational—FY 2000)

URNA—Sub-Priority Area 1.1B. Urban and Rural Community Economic Development (Native Americans) (FY 2000)

HB—Sub-Priority Area 1.2. Urban and Rural Community Economic Development (HBCU Set-Aside—FY 2001)

PD—Sub-Priority Area 1.3. Urban and Rural Community Economic Development (Pre-Developmental Set-Aside) (FY 2001)

HPD—Sub-Priority Area 1.3A. Urban and Rural Community Economic Development (Pre-Developmental Set-Aside) (FY 2000)

DD—Sub-Priority Area 1.4. Urban and Rural Community Economic Development (Developmental Set-Aside) (FY 2001)

AM—Sub-Priority Area 1.5. Administrative and Management (Set-Aside) (FY 2001)

UT—Sub-Priority Area 1.6. Training and Technical Assistance (Set-Aside) (FY 2001)

RF—Sub-Priority Area 2.1. Rural Community Facilities (Water and Waste Water Treatment Systems Development) (FY 2001)

RFA—Sub-Priority Area 2.1A. Rural Community Facilities (Water and Waste Water Treatment Systems Development) (FY 2000)

2. SF-424A—Budget Information—Non-Construction Programs

See instructions accompanying this form as well as the instructions set forth below:

In completing these sections, the Federal funds budget entries will relate to the requested OCS discretionary funds only, and Non-Federal will include mobilized funds from all other sources—applicant, state, local, and other. Federal funds other than requested OCS Discretionary funding should be included in Non-Federal entries.

The budget forms in SF-424A are only to be used to present grant administrative costs and major budget categories. Financial data that is generated as part of a project Business Plan or other internal project cost data must be separate and should appear as part of the project Business Plan or other project implementation data.

Sections A and D of SF-424A must contain entries for both Federal (OCS) and non-Federal (mobilized) funds. Section B contains entries for Federal (OCS) funds only. Clearly identified continuation sheets in SF-424A format should be used as necessary.

Section A—Budget Summary

Lines 1-4

— Column (a): Line 1—Enter CSBG Discretionary

— Column (b): Line 1—Enter 93.570

— Columns (c) and (d): Leave Blank

— Columns (e) through (g): Line 1, enter the appropriate amounts needed to support the project for the budget period.

Line 5: Enter the figures from Line 1 for all columns completed as required, (c), (d), (3), (f), and (g).

Section B—Budget Categories

Allowability of costs is governed by applicable cost principles set forth in 45 CFR Parts 74 and 92. A budget narrative must be submitted that includes the appropriate justifications as stated.

This section should contain entries for OCS funds only. For all projects, this first budget period will be entered in Column (1).

Budget estimates for administrative costs must be supported by adequate detail for the grants officer to perform a cost analysis and review. Adequately detailed calculations for each budget object class are those which reflect estimation methods, quantities, unit costs, salaries, and other similar quantitative detail sufficient for the calculation to be duplicated. For any additional object class categories included under the object class other, identify the additional object class(es) and provide supporting calculations.

Supporting narratives and justifications are required for each budget category, with emphasis on unique/special initiatives; large dollar amounts; local, regional, or other travel; new positions; and major equipment purchases.

A detailed itemized budget with a separate budget justification for each major item should be included as indicated below:

Line 6a

Personnel—Enter the total costs of salaries and wages.

Justification—Identify the project director and staff. Specify by title or name the percentage of time allocated to the project, the individual annual salaries and the cost to the project (both Federal and non-Federal) of the organization's staff who will be working on the project.

Line 6b

Fringe Benefits—Enter the total costs of fringe benefits unless treated as part of an approved indirect cost rate which is entered on Line 6j.

Justification—Enter the total costs of fringe benefits, unless treated as part of an approved indirect cost rate. Provide a breakdown of amounts and percentages that comprise fringe benefit costs.

Line 6c

Travel—Enter total cost of all travel by employees of the project. Do not enter costs for consultant's travel.

Justification—Include the name(s) of traveler(s), total number of trips, destinations, length of stay, mileage rate, transportation costs and subsistence allowances. Traveler must be a person listed under the personnel line or employee being paid under non-federal share. (Note: Local transportation and consultant travel costs are entered on Line 6h.)

Line 6d

Equipment—Enter the total estimated costs for all non-expendable personal property to be acquired by the project. Equipment means tangible nonexpendable personal property, including exempt property, charged directly to the award having a useful life of more than one year and an acquisition cost of $5,000 or more per unit. However, consistent with recipient policy, lower limits may be established.

Justification—Provide breakdown of cost per item. Items that cost less than $5,000 should be included under Supplies.

Line 6e

Supplies—Enter the total estimated costs of all tangible personal property (supplies) other than that included on line 6d.

Justification—Provide a general description as to what is being purchased such as type of supplies, office, classroom, medical, etc. Also property that is not equipment and costs less than $5,000 per item.

Line 6f

Contractual—Enter the total costs of all contracts, including (1) procurement contracts (except those which belong on other lines such as equipment, supplies, etc.) and (2) contracts with secondary recipient organizations including delegate agencies and specific projects(s) or businesses to be financed by the applicant.

Justification—Contractual cannot be a person—it must be the name of an organization, firm, etc. Consultant cost goes in line 6h—Other.

Line 6g

Construction—Enter the estimated costs of renovation, repair, or new construction. Identify the type of construction activity and costs associated, i.e., concrete, HVAC, electrical, etc. Provide narrative justification and breakdown of costs.

Line 6h

Other—Enter the total of all other costs. Such costs, where applicable, may include, but are not limited to insurance, fees and travel paid directly to individual consultants, local transportation (all travel which does not require per diem is considered local travel), space and equipment rentals, printing, computer use training costs including tuition and stipends, training service costs including wage payments to individuals and supportive service payments, and staff development costs.

Justification—Provide as much detail as you can. Some items may have to be defined more than others.

Line 6j

Indirect Charges—Enter the total amount of indirect costs. This line should be used only when the applicant currently has an indirect cost rate approved by DHHS or other Federal agencies.

If the applicant organization is in the process of initially developing or renegotiating a rate, it should, immediately upon notification that an award will be made, develop a tentative indirect cost rate proposal based on its most recently completed fiscal year in accordance with the principles set forth in the pertinent DHHS Guide for Establishing Indirect Cost Rates and submit it to the appropriate DHHS Regional Office. It should be noted that when an indirect cost rate is requested, those costs included in the indirect cost pool cannot be also budgeted or charged as direct costs to the grant. Indirect costs consistent with approved Indirect Cost Rate Agreements are allowable.

Section C—Non-Federal Resources

This section is to record the amounts of non-Federal resources that will be used to support the project. Non-Federal resources mean other than OCS funds for which the applicant is applying. Therefore, mobilized funds from other Federal programs, such as the Job Training Partnership Act program, should be entered on these lines. Provide a brief listing of the non-Federal resources on a separate sheet and describe whether it is a grantee-incurred cost or a third-party in-kind contribution. The firm commitment of these resources must be documented and submitted with the application in order to be given credit in the Public-Private Partnerships Criterion.

Except in unusual situations, this documentation must be in the form of letters of commitment from the organization(s)/individuals from which funds will be received.

Note: Even though there are no matching requirements for the Discretionary Grants Program, grantees will be held accountable for any match, cash or in-kind contribution proposed or pledged as part of an approved application.

Part H—Post Award Information and Reporting Requirements

1. Notification of Grant Award

Following approval of the applications selected for funding, notice of project approval and authority to draw down project funds will be made in writing. The official award document is the Financial Assistance Award that provides the amount of Federal funds approved for use in the project, the budget period for which support is provided, the terms and conditions of the award, the total project period for which support is contemplated, and the total financial participation from the award recipient.

General Conditions and Special Conditions (where the latter are warranted) that will be applicable to grants, are subject to the provisions of 45 CFR Parts 74 and 92.

2. Attendance at OCS Training Conference

The Executive Director and/or Project Director will be required to attend a two-day national workshop in Washington, D.C. The project budget must include funds for travel to and attendance at this conference.

3. Reporting Requirements

Grantees will be required to submit semi-annual progress and financial reports (SF-269) as well as a final progress and financial report.

Under the Paperwork Reduction Act of 1995, Public Law 104-13, an agency may not conduct or sponsor, and a person is not required to respond to, a collection of information unless it displays a currently valid OMB control number. This program announcement does not contain information collection requirements beyond those approved for ACF grant applications under OMB Control Number 0970-0062, which expires 10/31/2001.

4. Audit Requirements

Grantees are subject to the audit requirements in 45 CFR Parts 74 and 92 and OMB Circular A-133. If an applicant will not be requesting indirect costs, it should anticipate in its budget request the cost of having an audit performed at the end of the grant period.

5. Lobbying

Section 319 of Public Law 101-121, signed into law on October 23, 1989, imposes prohibitions and requirements for disclosure and certification related to lobbying on recipients of Federal contracts, grants, cooperative agreements, and loans. It provides limited exemptions for Indian tribes and tribal organizations. Current and prospective recipients (and their subtier contractors and/or grantees) are prohibited from using appropriated funds for lobbying Congress or any Federal agency in connection with the award of a contract, grant, cooperative agreement or loan. In addition, for each award action in excess of $100,000 (or $150,000 for loans) the law requires recipients and their subtier contractors and/or subgrantees: (1) to certify that they have neither used nor will use any appropriated funds for payment to lobbyists; (2) to submit a declaration setting forth whether payments to lobbyists have been or will be made out of nonappropriated funds and, if so, the name, address, payment details, and purpose of any agreements with such lobbyists whom recipients or their subtier contractors or subgrantees will pay with the nonappropriated funds; and (3) to file quarterly up-dates about the use of lobbyists if an event occurs that materially affects the accuracy of the information submitted by way of declaration and certification. The law establishes civil penalties for noncompliance and is effective with respect to contracts, grants, cooperative agreements and loans entered into or made on or after December 23, 1989. See Attachment H for certification and disclosure forms to be submitted with the applications for this program.

6. Applicable Federal Regulations

Attachment I provides a list of the regulations that apply to all applicants/grantees under the FY 2000 (Supplementary) and FY 2001 Discretionary Grants Programs.

Dated: June 9, 2000.
Donald Sykes,
Director, Office of Community Services.

Attachments

A—2000 Poverty Income Guidelines

B—Standard Form 424, Application for Federal Assistance

C—Standard Form 424A, Budget Information—Non-Construction Programs

D—Standard Form 424B, Assurances—Non-Construction Programs

E—Certification Regarding Drug-Free Workplace Requirements

F—Certification of Debarment, Suspension and Other Responsibility Matters

G—State Single Points of Contact Listing

H—Certification Regarding Lobbying and Disclosure of Lobbying Activities, SF LLL

I—DHHS Regulations Applying to all Applicants/Grantees Under the Fiscal Year 2000 (Supplementary) and Fiscal Year 2001 Discretionary Grants Programs

J—Certification Regarding Environmental Tobacco Smoke

K—Guidelines for a Business Plan

L—Table of Standard Industrial Codes and Occupational Classifications

M—Applicant's Checklist

Attachment A

2000 Poverty Guidelines for the 48 Contiguous States and the District of Columbia
Size of family unit | Poverty guidelines
1 | $8,350
2 | 11,250
3 | 14,150
4 | 17,050
5 | 19,950
6 | 22,850
7 | 25,750
8 | 28,650

For family units with more than 8 members, add $2,900 for each additional member. (The same increment applies to smaller family sizes also, as can be seen in the figures above).

2000 Poverty Guidelines for Alaska
Size of family unit | Poverty guidelines
1 | $10,430
2 | 14,060
3 | 17,690
4 | 21,320
5 | 24,950
6 | 28,580
7 | 32,210
8 | 35,840

For family units with more than 8 members, add $3,630 for each additional member. (The same increment applies to smaller family sizes also as can be seen in the figures above).

2000 Poverty Guidelines for Hawaii
Size of family unit | Poverty guidelines
1 | $9,500
2 | 12,930
3 | 16,270
4 | 19,610
5 | 22,950
6 | 26,290
7 | 29,630
8 | 32,970

For family units with more than 8 members, add $3,340 for each additional member. (The same increment applies to smaller family sizes also, as can be seen in the figures above).

BILLING CODE 4184-01-P

BILLING CODE 4184-01-C

Instructions for the SF-424

Public reporting burden for this collection of information is estimated to average 45 minutes per response, including time for reviewing instructions, searching existing data sources, gathering and maintaining the data needed, and completing and reviewing the collection of information. Send comments regarding the burden estimate or any other aspect of this collection of information. including suggestions for reducing this burden, to the Office of Management and Budget, Paperwork Reduction Project (0348-0043), Washington, DC 20503.

Please do not return your completed form to the Office of Management and Budget. Send it to the address provided by the sponsoring agency.

This is a standard form used by applicants as a required facesheet for preapplications and applications submitted for Federal assistance. It will be used by Federal agencies to obtain applicant certification that States which have established a review and comment procedure in response to Executive Order 12372 and have selected the program to be included in their process, have been given an opportunity to review the applicant's submission.

Item and Entry

1. Self-explanatory.

2. Date application submitted to Federal agency (or State if applicable) and applicant's control number (if applicable).

3. State use only (if applicable).

4. If this application is to continue or revise an existing award, enter present Federal identifier number. If for a new project, leave blank.

5. Legal name of applicant, name of primary organizational unit which will undertake the assistance activity, complete address of the applicant, and name and telephone number of the person to contact on matters related to this application.

6. Enter Employee Identification Number (EIN) as assigned by the Internal Revenue Service.

7. Enter the appropriate letter in the space provided.

8. Check appropriate box and enter appropriate letter(s) in the space(s) provided:

—“New” means a new assistance award.

—“Continuation” means an extension for an additional funding/budget period for a project with a projected completion date.

—“Revision” means any change in the Federal Government's financial obligation or contingent liability from an existing obligation.

9. Name of Federal agency from which assistance is being requested with this application.

10. Use the Catalog of Federal Domestic Assistance number and title of the problem under which assistance is requested.

11. Enter a brief descriptive title of the project. If more than one program is involved, you should append an explanation on a separate sheet. If appropriate (e.g., construction or real property projects), attach a map showing project location. For preapplications, use a separate sheet to provide a summary description of this project.

12. List only the largest political entities affected (e.g., State, counties, cities).

13. Self-explanatory.

14. List the applicant's Congressional District and any District(s) affected by the program or project.

15. Amount requested or to be contributed during the first funding/budget period by each contributor. Value of in-kind contributions should be included on appropriate lines as applicable. If the action will result in a dollar change to an existing award, indicate only the amount of the change. For decreases, enclose the amounts in parentheses. If both basic and supplemental amounts are included, show breakdown on an attached sheet. For multiple program funding, use totals and show breakdown using same categories as Item 15.

16. Applicants should contact the State Single Point of Contact (SPOC) for Federal Executive Order 12372 to determine whether the application is subject to the State intergovernmental review process.

17. This question applies to the applicant organization, not the person who signs as the authorized representative. Categories of debt include delinquent audit disallowances, loan and taxes.

18. To be signed by the authorized representative of the applicant. A copy of the governing body's authorization for you to sign this application as official representative must be on file in the applicant's office. (Certain Federal agencies may require that this authorization be submitted as part of the application.)

BILLING CODE 4184-01-P

Instructions for the SF-424A

Public reporting burden for this collection of information is estimated to average 180 minutes per response, including time for reviewing instructions, searching existing data sources, gathering and maintaining the data needed, and completing and reviewing the collection of information. Send comments regarding the burden estimate or any other aspect of this collection of information, including suggestions for reducing this burden, to the Office of Management and Budget, Paperwork Reduction Project (0348/004), Washington, DC 50503.

Please do not return your completed form to the Office of Management and Budget, send it to the address provided by the sponsoring agency.

General Instructions

This form is designed so that application can be made for funds from one or more grant programs. In preparing the budget, adhere to any existing Federal grantor agency guidelines which prescribe how and whether budgeted amounts should be separately shown for different functions or activities within the program. For some programs, grantor agencies may require budgets to be separately shown by function or activity. For other programs, grantor agencies may require a breakdown by function or activity. Sections A, B, C, and D should include budget estimates for which requires Federal authorization in annual or other funding period increments. In the latter case, Sections A, B, C, and D should provide the budget for the first budget period (usually a year) and Section E should present the need for Federal assistance in the subsequent budget periods. All applications should contain a breakdown by the object class categories shown in Lines a-k of Section B.

Section A. Budget Summary

Lines 1-4 Columns (a) and (b)

For applications pertaining to a single Federal grant program (Federal Domestic Assistance Catalog number) and not requiring a functional or activity breakdown, enter on Line 1 under Column (a) the Catalog program title and the Catalog number in Column (b).

For applications pertaining to a single program requiring budget amounts by multiple functions or activities, enter the name of each activity or function on each line in Column (a), and enter the Catalog number in Column (b). For applications pertaining to multiple programs where none of the programs require a breakdown by function or activity, enter the Catalog program title on each line in Column (a) and the respective Catalog number on each line in Column (b).

For applications pertaining to multiple programs where one or more programs require a breakdown by function or activity, prepare a separate sheet for each program requiring the breakdown. Additional sheets should be used when one form does not provide adequate space for all breakdown of data required. However, when more than one sheet is used, the first page should provide the summary totals by programs.

Lines 1-4, Columns (c) Through (g)

For new applications leave Column (c) and (d) blank. For each line entry in Columns (a) and (b), enter in Columns (e), (f), and (g) the appropriate amounts of funds needed to support the project for the first funding period (usually a year).

For continuing grant program applications, submit these forms before the end of each funding period as required by the grantor agency. Enter in Columns (c) and (d) the estimated amounts of funds which will remain unobligated at the end of the grant funding period only if the Federal grantor agency instructions provide for this. Otherwise, leave these columns blank. Enter in columns (e) and (f) the amounts of funds needed for the upcoming period. The amount(s) in Column (g) should be the sum of amounts in Columns (e) and (f).

For supplemental grants and changes to existing grants, do not use Columns (c) and (d). Enter in Column (e) the amount of the increase or decrease of Federal funds and enter in Column (f) the amount of the increase or decrease of non-Federal funds. In Column (g) enter the new total budgeted amount (Federal and non-Federal) which includes the total previous authorized budgeted amounts plus or minus, as appropriate, the amounts shown in Columns (e) and (f). The amount(s) in Column (g) should not equal the sum of amounts in Columns (e) and (f).

Line 5—Show the totals for all columns used.

Section B. Budget Categories

In the column headings (1) through (4), enter the titles of the same programs, functions, and activities shown on Lines 1-4, Column (a), Section A. When additional sheets are prepared for Section A, provide similar column headings on each sheet. For each program, function or activity, fill in the total requirements for funds (both Federal and non-Federal) by object class categories.

Line 6a-i—Show the totals of Lines 6a to 6h in each column.

Line 6j—Show the amount of indirect cost.

Line 6k—Enter the total amounts on Lines 6i and 6j. For all applications for new grants and continuation grants the total amount in column (5), Line 6k, should be the same as the total amount shown in Section A, Column (g), Line 5. For supplemental grants and changes to grants, the total amount of the increase or decrease as shown in Columns (1)-(4), Line 6k should be the same as the sum of the amounts in Section A, Columns (e) and (f) on Line 5.

Line 7—Enter the estimated amount of income, if any, expected to be generated from this project. Do not add or subtract this amount from the total project amount. Show under the program narrative statement the nature and source of income. The estimated amount of program income may be considered by the Federal grantor agency in determining the total amount of the grant.

Section C. Non-Federal Resources

Lines 8-11—Enter amounts of non-Federal resources that will be used on the grant. If in-kind contributions are included, provide a brief explanation on a separate sheet.

Column (a)—Enter the program titles identical to Column (a), Section A. A breakdown by function or activity is not necessary.

Column (b)—Enter the contribution to be made by the applicant.

Column (c)—Enter the amount of the State's cash and in-kind contribution if the applicant is not a State or State agency. Applicants which are a State or State agencies should leave this column blank.

Column (d)—Enter the amount of cash and in-kind contributions to be made from all other sources.

Column (e)—Enter totals of Columns (b), (c), and (d).

Line 12—Enter the total for each of Columns (b)-(e). The amount in column (e) should be equal to the amount on Line 5, column (f), Section A.

Section D. Forecasted Cash Needs

Line 13—Enter the amount of cash needed by quarter from the grantor agency during the first year.

Line 14—Enter the amount of cash from all other sources needed by quarter during the first year.

Line 15—Enter the totals of amounts on Lines 13 and 14.

Section E. Budget Estimates of Federal Funds Needed for Balance of the Project

Lines 16-19—Enter in Column (a) the same grant program titles shown in column (a), Section A. A breakdown by function or activity is not necessary. For new applications and continuation grant applications, enter in the proper columns amounts of Federal funds which will be needed to complete the program or project over the succeeding funding periods (usually in years). This section need not be completed for revisions (amendments, changes, or supplements) to funds for the current year of existing grants.

If more than four lines are needed to list the program titles, submit additional schedules as necessary.

Lines 20—Enter the total for each of the Columns (b)-(e). When additional schedules are prepared for this Section, annotate accordingly and show the overall totals on this line.

Section F. Other Budget Information

Line 21—Use this space to explain amounts for individual direct object class cost categories that may appear to be out of the ordinary or to explain the details as required by the Federal grantor agency.

Line 22—Enter the type of indirect rate (provisional, predetermined, final or fixed) that will be in effect during the funding period, the estimated amount of the base to which the rate is applied, and the total indirect expense.

Line 23—Provide any other explanations or comments deemed necessary.

Attachment D.—Assurances—Non-Construction Programs

Public reporting burden for this collection of information is estimated to average 15 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0040), Washington, DC 20503.

Please do not return your completed form to the Office of Management and Budget. Send it to the address provided by the sponsoring agency.

Note: Certain of these assurances may not be applicable to your project or program. If you have questions, please contact the awarding agency. Further, certain Federal awarding agencies may require applicants to certify to additional assurances. If such is the case, you will be notified.

As the duly authorized representative of the applicant, I certify that the applicant:

1. Has the legal authority to apply for Federal assistance and the institutional, managerial and financial capability (including funds sufficient to pay the non-Federal share of project cost) to ensure proper planning, management and completion of the project described in this application.

2. Will give the awarding agency, the Comptroller General of the United States and, if appropriate, the State, through any authorized representative, access to and the right to examine all records, books, papers, or documents related to the award; and will establish a proper accounting system in accordance with generally accepted accounting standards or agency directives.

3. Will establish safeguards to prohibit employees from using their positions for a purpose that constitutes or presents the appearance of personal or organizational conflict of interest, or personal gain.

4. Will initiate and complete the work within the applicable time frame after receipt of approval of the awarding agency.

5. Will comply with the Intergovernmental Personnel Act of 1970 (42 U.S.C. §§ 4728-4763) relating to prescribed standards for merit systems for programs funded under one of the 19 statutes or regulations specified in Appendix A of OPM's Standards for a Merit System of Personnel Administration (5 CFR 900, Subpart F).

6. Will comply with all Federal statutes relating to nondiscrimination. These include but are not limited to: (a) Title VI of the Civil Rights Act of 1964 (P.L. 88-352) which prohibits discrimination on the basis of race, color or national origin; (b) Title IX of the Education Amendments of 1972, as amended (20 U.S.C. §§ 1681-1683, and 1685-1686), which prohibits discrimination on the basis of sex; (c) Section 504 of the Rehabilitation Act of 1973, as amended (29 U.S.C. § 794), which prohibits discrimination on the basis of handicaps; (d) the Age Discrimination Act of 1975, as amended (42 U.S.C. §§ 6101-6107), which prohibits discrimination on the basis of age; (e) the Drug Abuse Office and Treatment Act of 1972 (P.L. 92-255), as amended, relating to nondiscrimination on the basis of drug abuse; (f) the Comprehensive Alcohol Abuse and Alcoholism Prevention, Treatment and Rehabilitation Act of 1970 (P.L. 91-616), as amended, relating to nondiscrimination on the basis of alcohol abuse or alcoholism; (g) §§ 523 and 527 of the Public Health Service Act of 1912 (42 U.S.C. §§ 290 dd-3 and 290 ee 3), as amended, relating to confidentiality of alcohol and drug abuse patient records; (h) Title VIII of the Civil Rights Act of 1968 (42 U.S.C. §§ 3601 et seq.), as amended, relating to nondiscrimination in the sale, rental or financing of housing; (i) any other nondiscrimination provisions in the specific statute(s) under which application for Federal assistance is being made; and, (j) the requirements of any other nondiscrimination statute(s) which may apply to the application.

7. Will comply, or has already complied, with the requirements of Titles II and III of the Uniform Relocation Assistance and Real Property Acquisition Policies Act of 1970 (P.L. 91-646) which provide for fair and equitable treatment of persons displaced or whose property is acquired as a result of Federal or federally-assisted programs. These requirements apply to all interests in real property acquired for project purposes regardless of Federal participation in purchases.

8. Will comply, as applicable, with provisions of the Hatch Act (5 U.S.C. §§ 1501-1508 and 7324-7328) which limit the political activities of employees whose principal employment activities are funded in whole or in part with Federal funds.

9. Will comply, as applicable, with the provisions of the Davis-Bacon Act (40 U.S.C.§§ 276a to 276a-7), the Copeland Act (40 U.S.C. § 276c and 18 U.S.C. § 874), and the Contract Work Hours and Safety Standards Act (40 U.S. C. §§ 327-333), regarding labor standards for federally-assisted construction subagreements.

10. Will comply, if applicable, with flood insurance purchase requirements of Section 102(a) of the Flood Disaster Protection Act of 1973 (P.L. 93-234) which requires recipients in a special flood hazard area to participate in the program and to purchase flood insurance if the total cost of insurable construction and acquisition is $10,000 or more.

11. Will comply with environmental standards which may be prescribed pursuant to the following: (a) Institution of environmental quality control measures under the National Environmental Policy Act of 1969 (P.L. 91-190) and Executive (EO) 11514; (b) notification of violating facilities pursuant to EO 11738; (c) protection of wetlands pursuant to EO 11990; (d) evaluation of flood hazards in floodplains in accordance with EO 11988; (e) assurance of project consistency with the approved State management program developed under the Coastal Zone Management program developed under the Coastal Zone Management Act of 1972 (16 U.S.C. §§ 1451 et seq.); (f) conformity of Federal actions to State (Clean Air) Implementation Plans under Section 176(c) of the Clean Air Act of 1955, as amended (42 U.S.C. §§ 7401 et seq.); (g) protection of underground sources of drinking water under the Safe Drinking Water Act of 1974, as amended (P.L. 93-523); and, (h) protection of endangered species under the Endangered Species Act of 1973, as amended (P.L. 93-205).

12. Will comply with the Wild and Scenic Rivers Act of 1968 (16 U.S.C. §§ 1271 et seq.) related to protecting components or potential components of the national wild and scenic rivers system.

13. Will assist the awarding agency in assuring compliance with Section 106 of the National Historic Preservation Act of 1966, as amended (16 U.S.C. § 470), EO 11593 (identification and protection of historic properties), and the Archaeological and Historic Preservation Act of 1974 (16 U.S.C. §§ 469a-1 et seq.).

14. Will comply with P.L. 93-348 regarding the protection of human subjects involved in research, development, and related activities supported by this award of assistance.

15. Will comply with the Laboratory Animal Welfare Act of 1966 (P.L. 89-544, as amended, 7 U.S.C. §§ 2131 et seq.) pertaining to the care, handling, and treatment of warm blooded animals held for research, teaching, or other activities supported by this award of assistance.

16. Will comply with the Lead-Based Paint Poisoning Prevention Act (42 U.S. C. §§ 4801 et seq.) which prohibits the use of lead-based paint in construction or rehabilitation of residence structures.

17. Will cause to be performed the required financial and compliance audits in accordance with the Single Audit Act Amendments of 1996 and OMB Circular No. A-133, “Audits of States, Local Governments, and Non-Profit Organizations.”

18. Will comply with all applicable requirements of all other Federal laws, executive orders, regulations, and policies governing this program.

Signature of authorized certifying official

Title

Applicant organization

Date submitted

Attachment E.—Certification Regarding Drug-Free Workplace Requirements

This certification is required by the regulations implementing the Drug-Free Workplace Act of 1988: 45 CFR Part 76, Subpart, F. Sections 76.630(c) and (d)(2) and 76.645(a)(1) and (b) provide that a Federal agency may designate a central receipt point for State-wide and State Agency-wide certifications, and for notification of criminal drug convictions. For the Department of Health and Human Services, the central pint is: Division of Grants Management and Oversight, Office of Management and Acquisition, Department of Health and Human Services, Room 517-D 200 Independence Avenue, SW Washington, DC 20201.

Certification Regarding Drug-Free Workplace Requirements (Instructions for Certification)

1. By signing and/or submitting this application or grant agreement, the grantee is providing the certification set out below.

2. The certification set out below is a material representation of fact upon which reliance is placed when the agency awards the grant. If it is later determined that the grantee knowingly rendered a false certification, or otherwise violates the requirements of the Drug-Free Workplace Act, the agency, in addition to any other remedies available to the Federal Government, may take action authorized under the Drug-Free Workplace Act.

3. For grantees other than individuals, Alternate I applies.

4. For grantees who are individuals, Alternate II applies.

5. Workplaces under grants, for grantees other than individuals, need not be identified on the certification. If known, they may be identified in the grant application. If the grantee does not identify the workplaces at the time of application, or upon award, if there is no application, the grantee must keep the identity of the workplace(s) on file in its office and make the information available for Federal inspection. Failure to identify all known workplaces constitutes a violation of the grantee's drug-free workplace requirements.

6. Workplace indetifications must include the actual address of buildings (or parts of buildings) or other sites where work under the grant takes place. Categorical descriptions may be used (e.g., all vehicles of a mass transit authority or State highway department while in operation, State employees in each local unemployment office, performers in concert halls or radio studios).

7. If the workplace identified to the agency changes during the performance of the grant, the grantee shall inform the agency of the change(s), if it previously identified the workplaces in question (see paragraph five).

8. Definitions of terms in the Nonprocurement Suspension and Debarment common rule and Drug-Free Workplace common rule apply to this certification Grantees' attention is called, in particular, to the following definitions from these rules:

Controlled substance means a controlled substance in Schedules I through V of the Controlled Substances Act (21 U.S.C. 812) and as further defined by regulation (21 CFR 1308.11 through 1308.15);

Conviction means a finding of guilt (including a plea of nolo contendere) or imposition of sentence, or both, by any judicial body charged with the responsibility to determine violations of the Federal or State criminal drug statutes;

Criminal drug statute means a Federal or non-Federal criminal statute involving the manufacture, distribution, dispensing, use, or possession of any controlled substance;

Employee means the employee of a grantee directly engaged in the performance of work under a grant, including: (i) All direct charge employees; (ii) All indirect charge employees unless their impact or involvement is insignificant to the performance of the grant; and, (iii) Temporary personnel and consultants who are directly engaged in the performance of work under the grant and who are on the grantee's payroll. This definition does not include workers not on the payroll of the grantee (e.g., volunteers, even if used to meet a matching requirement; consultants or independent contractors not on the grantee's payroll; or employees of subrecipients or subcontractors in covered workplaces).

Certification Regarding Drug-Free Workplace Requirements

Alternate I. (Grantees Other Than Individuals)

The grantee certifies that it will or will continue to provide a drug-free workplace by:

(a) Publishing a statement notifying employees that the unlawful manufacture, distribution, dispensing, possession, or use of a controlled substance is prohibited in the grantee's workplace and specifying the actions that will be taken against employees for violation of such prohibition;

(b) Establishing an ongoing drug-free awareness program to inform employees about—

(1) The dangers of drug abuse in the workplace;

(2) The grantee's policy of maintaining a drug-free workplace;

(3) Any available drug counseling, rehabilitation, and employee assistance programs; and

(4) The penalties that may be impose upon employees for drug abuse violations occurring in the workplace;

(c) Making it a requirement that each employee to be engaged in the performance of the grant be given a copy of the statement required by paragraph (a);

(d) Notifying the employee in the statement required by paragraph (a) that, as a condition of employment under the grant, the employee will—

(1) Abide by the terms of the statement; and

(2) Notify the employer in writing of his or her conviction for a violation of a criminal drug statute occurring in the workplace no later than five calendar days after such conviction;

(e) Notifying the agency in writing, within ten calendar days after receiving notice undr paragraph (d)(2) from an employee or otherwise receiving actual notice of such conviction. Employers of convicted employees must provide notice, including position title, to every grant officer or other designee on whose grant activity the convicted employee was working, unless the Federal agency has designated a central point for the receipt of such notices. Notice shall include the identification number(s) of each affected grant;

(f) Taking one of the following actions, with 30 calendar days of receiving notice under paragraph (d)(2), with respect to any employee who is so convicted—

(1) Taking appropriate personnel action against such an employee, up to an including termination, consistent with the requirements of the Rehabilitation Act of 1973, as amended; or

(2) Requiring such employee to participate satisfactorily in a drug abuse assistance or rehabilitation program approved for such purposes by a Federal, State, or local health, law enforcement, or other appropriate agency;

(g) Making a good faith effort to continue to maintain a drug-free workplace through implementation of paragraphs (a), (b), (c), (d), (e) and (f).

(B) The grantee may insert in the space provided below the site(s) for the performance of work done in connection with the specific grant:

Place of Performance (Street address, city, county, state, zip code)

Check if there are workplaces on file that are not identified here.

Alternate II. (Grantees Who Are Individuals)

(a) The grantee certifies that, as a conditions of the grant, he or she will not engage in the unlawful manufacture, distribution, dispensing, possession, or use of a controlled substance in conducting any activity with the grant;

(b) If convicted of a criminal drug offense resulting from a violation occurring during the conduct of any grant activity, he or she will report the conviction, in writing, with 10 calendar days of the conviction, to every grant officer or other designee, unless the Federal agency designates a central point for the receipt of such notices. When notice is made to such a central point, it shall include the identification numbers(s) of each affected grant.

[55 FR 21690, 21702, May 25, 1990]

Attachment F.—Certification Regarding Debarment, Suspension and Other Responsibility Matters

Certification Regarding Debarment, Suspension, and Other Responsibility Matters—Primary Covered Transactions

Instructions for Certification

1. By signing and submitting this proposal, the prospective primary participant is providing the certification set out below.

2. The inability of a person to provide the certification required below will not necessarily result in denial of participation in this covered transaction. The prospective participant shall submit an explanation of why it cannot provide the certification set out below. The certification or explanation will be considered in connection with the department or agency's determination whether to enter into this transaction. However, failure of the prospective primary participant to furnish a certification or an explanation shall disqualify such person from participation in this transaction.

3. The certification in this clause is a material representation of fact upon which reliance was placed when the department or agency determined to enter into this transaction. If it is later determined that the prospective primary participant knowingly rendered an erroneous certification, in addition to other remedies available to the Federal Government, the department or agency may terminate this transaction for cause or default.

4. The prospective primary participant shall provide immediate written notice to the department or agency to which this proposal is submitted if at any time the prospective primary participant learns that its certification was erroneous when submitted or has become erroneous by reason of changed circumstances.

5. The terms covered transaction, debarred, suspended, ineligible, lower tier covered transaction, participant, person, primary covered transaction, principal, proposal, and voluntarily excluded, as used in this clause, have the meanings set out in the Definitions and Coverage sections of the rules implementing Executive Order 12549. You may contact the department or agency to which this proposal is being submitted for assistance in obtaining a copy of those regulations.

6. The prospective primary participant agrees by submitting this proposal that, should the proposed covered transaction be entered into, it shall not knowingly enter into any lower tier covered transaction with a person who is proposed for debarment under 48 CFR part 9, subpart 9.4, debarred, suspended, declared ineligible, or voluntarily excluded from participation in this covered transaction, unless authorized by the department or agency entering into this transaction.

7. The prospective primary participant further agrees by submitting this proposal that it will include the clause titled “Certification Regarding Debarment, Suspension, Ineligibility and Voluntary Exclusion-Lower Tier Covered Transaction,” provided by the department or agency entering into this covered transaction, without modification, in all lower tier covered transactions and in all solicitations for lower tier covered transactions.

8. A participant in a covered transaction may rely upon a certification of a prospective participant in a lower tier covered transaction that it is not proposed for debarment under 48 CFR part 9, subpart 9.4, debarred, suspended, ineligible, or voluntarily excluded from the covered transaction, unless it knows that the certification is erroneous. A participant may decide the method and frequency by which it determines the eligibility of its principals. Each participant may, but is not required to, check the List of Parties Excluded from Federal Procurement and Nonprocurement Programs.

9. Nothing contained in the foregoing shall be construed to require establishment of a system of records in order to render in good faith the certification required by this clause. The knowledge and information of a participant is not required to exceed that which is normally possessed by a prudent person in the ordinary course of business dealings.

10. Except for transactions authorized under paragraph 6 of these instructions, if a participant in a covered transaction knowingly enters into a lower tier covered transaction with a person who is proposed for debarment under 48 CFR part 9, subpart 9.4, suspended, debarred, ineligible, or voluntarily excluded from participation in this transaction, in addition to other remedies available to the Federal Government, the department or agency may terminate this transaction for cause or default.

Certification Regarding Debarment, Suspension, and Other Responsibility Matters—Primary Covered Transactions

(1) The prospective primary participant certifies to the best of its knowledge and belief, that it and its principals:

(a) Are not presently debarred, suspended, proposed for debarment, declared ineligible, or voluntarily excluded by any Federal department or agency;

(b) Have not within a three-year period preceding this proposal been convicted of or had a civil judgment rendered against them for commission of fraud or a criminal offense in connection with obtaining, attempting to brain, or preforming a public (Federal, State or local) transaction or contract under a public transaction; violation of Federal or State antitrust statutes or commission of embezzlement, theft, forgery, bribery, falsification or destruction of records, making false statements, or receiving stolen property;

(c) Are not presently indicated for or otherwise criminally or civilly charged by a governmental entity (Federal, State or local) with commission of any of the offenses enumerated in paragraph (1)(b) of this certification; and

(d) Have not within a three-year period preceding this application/proposal had one or more public transaction (Federal, State or local) terminated for cause or default.

(2) Where the prospective primary participation is unable to certify to any of the statements in this certification, such prospective participant shall attach an explanation to this proposal.

Certification Regarding Debarment, Suspension, Ineligibility and Voluntary Exclusion—Lower Tier Covered Transactions

Instructions for Certification

1. By signing and submitting this proposal, the prospective lower tier participant is providing the certification set out below.

2. The certification in this clause is a material representation of fact upon which reliance was placed when this transaction was entered into. If it is later determined that the prospective lower tier participant knowingly rendered an erroneous certification, in addition to other remedies available to the Federal Government the department or agency with which this transaction originated may pursue available remedies, including suspension and/or debarment.

3. The prospective lower tier participant shall provide immediate written notice to the person to which this proposal is submitted if at one time the prospective lower tier participant learns that its certification was erroneous when submitted or had become erroneous by reason of changed circumstances.

4. The terms covered transaction, debarred, suspended, ineligible, lower tier covered transaction, participant, person, primary covered transaction, principal, proposal, and voluntary excluded, as used in this clause, have the meaning set our in the Definitions and Coverage sections of rules implementing Executive Order 12549. You may contact the person to which this proposal is submitted for assistance in obtaining a copy of those regulations.

5. The prospective lower tier participant agrees by submitting this proposal that, [[Page 33043]] should the proposed covered transaction be entered into, it shall not knowingly enter into any lower tier covered transaction with a person who is proposed for debarment under 48 CFR part 9, subpart 9.4, debarred, suspended, declared ineligible, or voluntarily excluded from participation in this covered transaction, unless authorized by the department or agency with which this transaction originated.

6. The prospective lower tier participant further agrees by submitting this proposal that it will include this clause titled “Certification Regarding Debarment, Suspension, Ineligibility and Voluntary Exclusion-Lower Tier Covered Transaction,” without modification, in lower tier covered transactions and in all solicitations for lower tier covered transactions.

7. A participant in a covered transaction may rely upon a certification of a prospective participant in a lower tier covered transaction that it is not proposed for debarment under 48 CFR part 9, subpart 9.4, debarred, suspended, ineligible, or voluntarily excluded from covered transactions, unless it knows that the certification is erroneous. A participant may decide the method and frequency by which it determines the eligibility of its principals. Each participant may, but is not required to, check the List of Parties Excluded from Federal Procurement and Nonprocurement Programs.

8. Nothing contained in the foregoing shall be construed to require establishment of a system of records in order to render in good faith the certification required by this clause. The knowledge and information of a participant is not required to exceed that which is normally possessed by a prudent person in the ordinary course of business dealings.

9. Except for transactions authorized under paragraph 5 of these instructions, if a participant in a covered transaction knowingly enters into a lower tier covered transaction with a person who is proposed for debarment under 48 CFR part 9, subpart 9.4, suspended, debarred, ineligible, or voluntarily excluded from participation in this transaction, in addition to other remedies available to the Federal Government, the department or agency with which this transaction originated may pursue available remedies, including suspension and/or debarment.

Certification Regarding Debarment, Suspension, Ineligibility and Voluntary Exclusion—Lower Tier Covered Transactions

(1) The prospective lower tier participant certifies, by submission of this proposal, that neither it nor its principals is presently debarred, suspended, proposed for debarment, declared ineligible, or voluntarily excluded from participation in this transaction by any Federal department or agency.

(2) Where the prospective lower tier participant is unable to certify to any of the statements in this certification, such prospective participant shall attach an explanation to this proposal.

Attachment G.—State Single Points of Contact (SPOCs)

It is estimated that in 2001, the Federal Government will outlay $305.6 billion in grants to State and local governments. Executive Order 12372, “Intergovernmental Review of Federal Programs,” was issued with the desire to foster the intergovernmental partnership and strengthen federalism by relying on State and local processes for the coordination and review of proposed Federal financial assistance and direct Federal development. The Order allows each State to designate an entity to perform this function. Below is the official list of those entities. For those States that have a home page for their designated entity, a direct link has been provided below. States that are not listed on this page have chosen not to participate in the intergovernmental review process, and therefore do not have a SPOC. If you are located within one of these States, you may still send application materials directly to a Federal awarding agency.

Arizona: Joni Saad, Arizona State Clearinghouse, 3800 N. Central Avenue, Fourteenth Floor, Phoenix, Arizona 85012, Telephone: (602) 280-1315, Fax: (602) 280-8144, jonis@ep.state.az.us.

Arkansas: Tracy L. Copeland, Manager, State Clearinghouse, Office of Intergovernmental Services, Department of Finance and Administration, 1515 W 7th St., Room 412, Little Rock, Arkansas 72203, Telephone: (501) 682-1074, Fax: (501) 682-5206, tlcopeland@dfa.state.ar.us.

California: Grants Coordination, State Clearinghouse, Office of Planning and Research, P.O. Box 3044, Room 222, Sacramento, California 95812-3044, Telephone: (916) 445-0613, Fax: (916) 323-3018, state.clearinghouse@opr.ca.gov.

Delaware: Charles H. Hopkins, Executive Department, Office of the Budget, 540 S. Dupont Highway, 3rd Floor, Dover, Delaware 19901, Telephone: (302) 739-3323, Fax: (302) 739-5661, chopkins@state.de.us.

District of Columbia: Ron Seldon, Office of Grants Management and Development, 717 14th Street, NW., Suite 1200, Washington, DC 20005, Telephone: (202) 727-1705, Fax; (202) 727-1617, ogmd-ogmd@dcgov.org.

Florida: Cherie L. Trainor, Florida State Clearinghouse, Department of Community Affairs, 2555 Shumard Oak Blvd., Tallahassee, Florida 32399-2100, Telephone: (850) 922-5438, (850) 414-5495 (direct), Fax: (850) 414-0479, cherie.trainor@dca.state.fl.us.

Georgia: Georgia State Clearinghouse, 270 Washington Street SW, Atlanta, Georgia 30334, Telephone: (404) 656-3855, Fax: (404) 656-7901, gach@mail.opb.state.ga.us.

Illinois: Virginia Bova, Department of Commerce and Community Affairs, James R. Thompson Center, 100 West Randolph, Suite 3-400, Chicago, Illinois 60601, Telephone: (312) 814-6028, Fax (312) 814-8485, vbova@commerce.state.il.us.

Indiana: Frances Williams, State Budget Agency, 212 State House, Indianapolis, Indiana 46204-2796, Telephone: (317) 232-2972, Fax: (317) 233-3323, fwilliams@sba.stat.in.us.

Iowa: Steven R. McCann, Division of Community and Rural Development, Iowa Department of Economic Development, 200 East Grant Avenue, Des Moines, Iowa 50309, Telephone: (515) 242-4719, Fax: (515) 242-4809, steve.mccann@ided.state.ia.us.

Kentucky: Ron Cook, Department for Local Government, Kentucky State Clearinghouse, 1024 Capital Center Drive, Suite 340, Frankfort, Kentucky 40601, Telephone: (502) 573-2382, Fax: (502) 573-0175, ron.cook@mail.state.ky.us.

Maine: Joyce Benson, State Planning Office, 184 State Street, 38 State House Station, Augusta, Maine 04333, Telephone: (207) 287-3261, (207) 287-1461 (direct), Fax: (207) 287-6489, joyce.benson@state.me.us.

Maryland: Linda Janey, Manager, Clearinghouse and Plan Review Unit, Maryland Office of Planning, 301 West Preston Street—Room 1104, Baltimore, Maryland 21201-2305, Telephone: (410) 767-4490, Fax: (410) 767-4480, linda@mail.op.state.md.us.

Michigan: Richard Pfaff, Southeast Michigan Council of Governments, 660 Plaza Drive—Suite 1900, Detroit, Michigan 48226, Telephone: (313) 961-4266, Fax: (313) 961-4869, pfaff@semcog.org.

Mississippi: Cathy Mallette, Clearinghouse Officer, Department of Finance and Administration, 550 High Street, 303 Walters Sillers Building, Jackson, Mississippi 39201-3087, Telephone: (601) 359-6762, Fax: (601) 359-6758.

Missouri: Lois Pohl, Federal Assistance Clearinghouse, Office of Administration, P.O. Box 809, Jefferson Building, Room 915, Jefferson City, Missouri 65102, Telephone: (573) 751-4834, Fax: (573) 522-4393, pohll_@mail.oa.state.mo.us.

Nevada: Heather Elliott, Department of Administration, State Clearinghouse, 209 E. Musser Street, Room 200, Carson City, Nevada 89701, Telephone: (775) 684-0209, Fax: (775) 684-0260, helliott@govmail.state.nv.us.

New Hampshire: Jeffrey H. Taylor, Director, New Hampshire Office of State Planning, Attn: Intergovernmental Review Process, Mike Blake, 2½ Beacon Street, Concord, New Hampshire 03301, Telephone: (603) 271-2155, Fax: (603) 271-1728, jtaylor@osp.state.nh.us.

New Mexico: Ken Hughes, Local Government Division, Room 201 Bataan Memorial Building, Santa Fe, New Mexico 87503, Telephone (505) 827-4370, Fax: (505) 827-4948, khughes@dfa.state.nm.us.

North Carolina: Jeanette Furney, Department of Administration, 1302 Mail Service Center, Raleigh, North Carolina 27699-1302, Telephone: (919) 807-2323, Fax: (919) 733-9571, jeanette.furney@ncmail.net.

North Dakota: Jim Boyd, Division of Community Services, 600 East Boulevard Ave, Dept 105, Bismarck, North Dakota 58505-0170, Telephone: (701) 328-2094, Fax: (701) 328-2308, jboyd@state.nd.us.

Rhode Island: Kevin Nelson, Department of Administration, Statewide Planning Program, One Capitol Hill, Providence, Rhode Island 02908-5870, Telephone: (401) 222-2093, Fax: (401) 222-2083, knelson@doa.state.ri.us.

South Carolina: Omeagia Burgess, Budget and Control Board, Office of State Budget, 1122 Ladies Street—12th Floor, Columbia, South Carolina 29201, Telephone: (803) 734-0494, Fax: (803) 734-0645, aburgess@budget.state.sc.us.

Texas: Tom Adams, Governors Office, Director, Intergovernmental Coordination, P.O. Box 12428, Austin, Texas 78711, Telephone: (512) 463-1771, Fax: (512) 936-2681, tadams@governor.state.tx.us.

Utah: Carolyn Wright, Utah State Clearinghouse, Governor's Office of Planning and Budget, State Capitol—Room 114, Salt Lake City, Utah 84114, Telephone: (801) 538-1535, Fax: (801) 538-1547, cwright@gov.state.ut.us.

West Virginia: Fred Cutlip, Director, Community Development Division, West Virginia Development Office, Building #6, Room 553, Charleston, West Virginia 25305, Telephone: (304) 558-4010, Fax: (304) 558-3248, fcutlip@wvdo.org.

Wisconsin: Jeff Smith, Section Chief, Federal/State Relations, Wisconsin Department of Administration, 101 East Wilson Street—6th Floor, P.O. Box 7868, Madison, Wisconsin 53707, Telephone: (608) 266-0267, Fax: (608) 267-6931, jeffrey.smith@doa.state.wi.us.

Wyoming: Sandy Ross, Department of Administration and Information, 2001 Capitol Avenue, Room 214, Cheyenne, WY 82002, Telephone: (307) 777-5492, Fax: (307) 777-3696, sross1@missc.state.wy.us.

Guam: Director, Bureau of Budget and Management Research, Office of the Governor, P.O. Box 2950, Agana, Guam 96910, Telephone: 011-671-472-2285, Fax: 011-472-2825, jer@ns.gov.gu.

Puerto Rico: Norma Burgos/Jose E. Caro, Puerto Rico Planning Board, Federal Proposals Review Office, Minillas Government Center, P.O. Box 41119, San Juan, Puerto Rico 00940-1119, Telephone: (809) 727-4444, (809) 723-6190, Fax: (809) 724-3270.

North Mariana Islands: Ms. Jacoba T. Seman, Federal Programs Coordinator, Office of Management and Budget, Office of the Governor, Saipan, MP 96950, Telephone: (670) 664-2289, Fax: (670) 664-2272, omb.jseman@saipan. com.

Virgin Islands: Ira Mills, Director, Office of Management and Budget, #41 Norre Gade Emancipation Garden Station, Second Floor, Saint Thomas, Virgin Islands 00802, Telephone: (340) 774-0750, Fax: (340) 776-0069, lrmills@usvi.org.

Changes to this list can be made only after OMB is notified by a State's officially designated representative. E-mail messages can be sent to grants@omb.eop.gov. If you prefer, you may send correspondence to the following postal address: Attn: Grants Management, Office of Management and Budget, New Executive Office Building, Suite 6025, 725 17th Street, NW, Washington, DC 20503.

Attachment H.—Certification Regarding Lobbying

Certification for Contracts, Grants, Loans, and Cooperative Agreements

The undersigned certifies, to the best of his or her knowledge and belief, that:

(1) No Federal appropriated funds have been paid or will be paid, by or on behalf of the undersigned, to any person for influencing or attempting to influence an officer or employee of an agency, a Member of Congress, an officer or employee of Congress, or an employee of a Member of Congress, an officer or emplyee of Congress, or an employee of a Member of Congress in connection with the awarding of any Federal contract, the making of any Federal grant, the making of any Federal loan, the entering into of any cooperative agreement, and the extension, continuation, renewal, amendment, or modification of any Federal contract, grant, loan, or cooperative agreement.

(2) If any funds other than Federal appropriated funds have been paid or will be paid to any person for influencing or attempting to influence an officer or employee of any agency, a Member of Congress, an officer or employee of Congress, or an employee of a Member of Congress in connection with the Federal contract, grant, loan, or cooperative agreement, the undersigned shall complete and submit Standard Form-LLL, “Disclosure Form to Report Lobbying,” in accordance with its instructions.

(3) The undersigned shall require that the language of this certification be included in the award documents for all subawards at all tiers (including subcontracts, subgrants, and contracts under grants, loans, and cooperative agreements) and that all subrecipients shall certify and disclose accordingly. This certification is a material representation of fact upon which reliance was placed when this transaction was made or entered into. Submission of this certification is a prerequisite for making or entering into this transaction imposed by section 1352, title 31, U.S. Code. Any person who fails to file the required certification shall be subject to a civil penalty of not less than $10,000 and not more than $100,000 for each such failure.

Statement for Loan Guarantees and Loan Insurance

The undersigned states, to the best of his or her knowledge and belief, that:

If any funds have been paid or will be paid to any person for influencing or attempting to influence an officer or employee of any agency, a Member of Congress, an officer or employee of Congress, or an employee of a Member of Congress in connection with this commitment providing for the United States to insure or guarantee a loan, the undersigned shall complete and submit Standard Form-LLL, “Disclosure Form to Report Lobbying,” in accordance with its instructions. Submission of this statement is a prerequisite for making or entering into this transaction imposed by section 1352, title 31, U.S. Code. Any person who fails to file the required statement shall be subject to a civil penalty of not less than $10,000 and not more than $100,000 for each such failure.

Signature

Title

Organization

BILLING CODE 4184-01-P

Instructions for Completion of SF-ILL, Disclosure of Lobbying Activities

This disclosure form shall be completed by the reporting entity, whether subawardee or prime Federal recipient, as the initiation or receipt of a covered Federal action, or a material change to a previous filing, pursuant to title 31 U.S.C. section 1352. The filing of a form is required for each payment or agreement to make payment to any lobbying entity for influencing or attempting to influence an officer or employee of any agency, a Member of Congress, an officer or employee of Congress, or an employee of a Member of Congress in connection with a covered Federal action. Complete all items that apply for both the initial filing and material change report. Refer to the implementing guidance published by the Office of Management and Budget for additional information.

1. Identify the type of covered Federal action for which lobbying activity is and/or has been secured to influence the outcome of a covered Federal action.

2. Identify the status of the covered Federal action.

3. Identify the appropriate classification of this report. If this is a followup report caused by a material change to the information previously reported, enter the year and quarter in which the change occurred. Enter the date of the last previously submitted report by this reporting entity for this covered Federal action.

4. Enter the full name, address, city, State and zip code of the reporting entity. Include Congressional District, if known. Check the appropriate classification of the reporting entity that designates if it is, or expects to be, a prime or subaward recipient. Identify the tier of the subawardee, e.g., the first subawardee of the prime is the 1st tier. Subawards include but are not limited to subcontracts, subgrants and contract awards under grants.

5. If the organization filing the report in item 4 checks “Subawardee,” then enter the full name, address, city, State and zip code of the prime Federal recipient. Include Congressional District, if known.

6. Enter the name of the Federal agency making the award or loan commitment. Include at least one organizational level below agency name, if known. For example, Department of Transportation, United Staates Coast Guard.

7. Enter the Federal program name or description for the covered Federal action (item 1). If known, enter the full Catalog of Federal Domestic Assistance (CFDA) number for grants, cooperative agreements, loans, and loan commitments.

8. Enter the most appropriate Federal identifying number available for the Federal action identified in item 1 (e.g., Request for Proposal (RFP) number; invitation for Bid (IFB) number; grant announcement number; the contract, grant, or loan award number; the application/proposal control number assigned by the Federal agency). Include prefixes, e.g., “RFP-DE-90-001.”

9. For a covered Federal action where there has been an award or loan commitment by the Federal agency, enter the Federal amount of the award/loan commitment for the prime entity identified in item 4 or 5.

10. (a) Enter the full name, address, city, State and zip code of the lobbying registrant under the Lobbying Disclosure Act of 1995 engaged by the reporting entity identified in item 4 to influence the covered Federal action.

(b) Enter the full names of the individual(s) performing services, and include full address if different from 10(a). Enter Last Name, First Name, and Middle Initial (MI).

11. The certifying official shall sign and date the form, print his/her name, title, and telephone number.

According to the Paperwork Reduction Act, as amended, no persons are required to respond to a collection of information unless it displays a valid OMB Control Number. The valid OMB control number for this information collection is OMB No. 0348-0046. Public reporting burden for this collection of information is estimated to average 10 minutes per response, including time for reviewing instruction, searching existing data sources, gathering and maintaining the data needed, and completing and reviewing the collection of information. Send comments regarding the burden estimate or any other aspect of this collection information, including suggestions for reducing this burden, to the Office of Management and Budget, Paperwork Reduction Project (0348-0046), Washington, DC 20503.

Attachment I.—Department of Health and Human Services (DHHS) Regulations Applying to All Applicants/Grantees Under the Fiscal Year 2000/2001 Discretionary Grants Program

Title 45 of the Code of Federal Regulations

Part

16—DHHS Grant Appeals Process

74—Administration of Grants (non-governmental)

74—Administration of Grants (state and local governments and Indian Tribal affiliates):

Section

74.26—Non-Federal Audits

74.27—Allowable cost for hospitals and non-profit organizations among other things

74.32—Real Property

74.34—Equipment

74.35—Supplies

74.24—Program Income

75—Informal Grant Appeal Procedures

76—Debarment and Suspension from Eligibility for Financial Assistance

Subpart F—Drug Free Workplace Requirements

Part

80—Non-discrimination Under Programs Receiving Federal Assistance through DHHS Effectuation of Title VI of the Civil Rights Act of 1964

81—Practice and Procedures for Hearings Under Part 80 of this Title

83—Regulation for the Administration and Enforcement of Sections 799A and 845 of the Public Health Service Act

84—Non-discrimination on the Basis of Handicap in Programs and Activities Receiving Federal Financial Assistance

85—Enforcement of Non-discrimination on the Basis of Handicap in Programs or Activities Conducted by DHHS

86—Non-discrimination on the Basis of Sex in Education Programs and Activities Receiving or Benefitting from Federal Financial Assistance

91—Non-discrimination on the Basis of Age in Health and Human Services Programs or Activities Receiving Federal Financial Assistance

92—Uniform Administrative Requirements for Grants and Cooperative Agreements to States and Local Governments (Federal Register, March 11, 1988)

93—New Restrictions on Lobbying

100—Intergovernmental Review of DHHS Programs and Activities

Attachment J.—Certification Regarding Environmental Tobacco Smoke

Public Law 103227, Part C Environmental Tobacco Smoke, also known as the Pro Children Act of 1994, requires that smoking not be permitted in any portion of any indoor routinely owned or leased or contracted for by an entity and used routinely or regulatory for provision of health, day care, education, or library services to children under the age of 18, if the services are funded by Federal programs either directly or through State or local governments, by Federal grant, contract, loan, or loan guarantee. The law does not apply to children's services provided in private residences, facilities funded solely by Medicare or Medicaid funds, and portions of facilities used for inpatient drug or alcohol treatment. Failure to comply with the provisions of the law may result in the imposition of a civil monetary penalty of up to $1000 per day and/or the imposition of an administrative compliance order on the responsible entity. By signing and submitting this application the applicant/grantee certifies that it will comply with the requirements of the Act.

The applicant/grantee further agrees that it will require the language of this certification be included in any subawards which contain provisions for the children's services and that all subgrantees shall certify accordingly.

Attachment K.—Guidelines for a Business Plan

The application must contain a detailed and specific workplan or business plan that is both sound and feasible. Generally, a business plan is required for applications submitted under sub-priority areas 1.1, 1.2 and 1.4. For all business ventures (except for business development opportunities for self-employed program participants) a complete business plan will be required using guidelines discussed in the next several paragraphs. For the remaining sub-priority areas, a workplan is acceptable in lieu of a business plan.

Please note that OCS does not require the application to contain business plans for each self-employed program participant. However, a project that proposes to provide self-employed and other business opportunities for program participants must include a development plan that shows how participants will become self-sufficient and how their technical assistance needs will be met.

Guidelines of a Business Plan

The business plan is one of the major components that will be evaluated by the OCS to determine the feasibility of a business venture or an economic development project. It must be well prepared and address all the relevant elements as follows:

(a) Executive Summary (limit summary to 3 pages)

(b) The business and its industry. This section should describe the nature and history of the business and provide some background on its industry.

(i) The Business: as a legal entity the general business category;

(ii) Description and Discussion of Industry: current status and prospects for the industry;

(c) Products and Services: This section deals with the following:

(i) Description: Describe in detail the products or services to be sold;

(ii) Proprietary Position: Describe proprietary features if any of the product, e.g., patients, trade secrets;

(iii) Potential: Features of the product or service that may give it an advantage over the competition;

(d) Market Research and Evaluation: The applicant should consider businesses in growth industries and occupations with skill levels accessible to low income persons. Businesses should be identified by Standard Industrial Codes (SIC) and jobs by occupational classifications. This information is published by the U.S. Department of Commerce in the “Statistical Abstract of the United States, 1996”, Table No. 646 and 647. Also, you may use the table included as “Attachment L” to identify industrial areas and occupational classifications. This section should present sufficient information to show that the product or service has a substantial market and can achieve sales in the face of competition;

(i) Customers: Describe the actual and potential purchasers for the product or service by market segment.

(ii) Market Size and Trends: State the site of the current total market for the product or service offered;

(iii) Competition: An assessment of the strengths and weaknesses of competitive in the current market;

(iv) Estimated Market Share and Sales: Describe the characteristics of the product or service that will make it competitive in the current market;

(e) Marketing Plan: The marketing plan should detail the product, pricing, distribution, and promotion strategies that will be used to achieve the estimated market share and sales projections. The marketing plan must describe what is to be done, how it will be done and who will do it. The plan should address the following topics-Overall Marketing Strategy, Packaging, Service and Warranty, Pricing, Distribution and Promotion.

(f) Design and Development Plans: If the product, process or service of the proposed venture requires any design and development before it is ready to be placed on the market, the nature and extent and cost of this work should be fully discussed. The section should cover items such as Development Status and Tasks, Difficulties and Risks, Product Improvement and New Products, and Costs.

(g) Manufacturing and Operations Plan: A manufacturing and operations plan should describe the kind of facilities, plant location, space, capital equipment and labor force (part and/or full time and wage structure) that are required to provide the company's product or service.

(h) Management Team: The management team is the key in starting and operating a successful business. The management team should be committed with a proper balance of technical, managerial and business skills, and experience in doing what is proposed. This section must include a description of: the key management personnel and their primary duties; compensation and/or ownership; the organizational structure; Board of Directors; management assistance and training needs; and supporting professional services.

(i) Overall Schedule: A schedule that shows the timing and interrelationships of the major events necessary to launch the venture and realize its objectives. Prepare, as part of this section, a month-by-month schedule that shows the timing of such activities as product development, market planning, sales programs, and production and operations. Sufficient detail should be included to show the timing of the primary tasks required to accomplish each activity.

(j) Critical Risks and Assumptions: The development of a business has risks and problems and the Business Plan should contain some explicit assumptions about them. Accordingly, identify and discuss the critical assumptions in the Business Plan and the major problems that will have to be solved to develop the venture. This should include a description of the risks and critical assumptions relating to the industry, the venture, its personnel, the products market appeal, and the timing and financing of the venture.

Also, if a “construction project” is involved, the Business Plan should identify and address briefly the project's timeframes and critical assumptions for conduct of predevelopment, architectural/engineering and environmental studies, etc., and acquisition of permits for building, use and occupancy that are required for the project.

(k) Community Benefits: The proposed project must contribute to economic, human and community development within the projects targets area. A section that describes and discusses the potential economic and non-economic benefits to low income members of the community must be included as well as a description of the strategy that will be used to identify and hire individuals being served by public assistance programs and how linkages with community agencies/organizations administering the AFDC/TANF program will be developed. The following project benefits must be described:

Economic Development and Job Creation

—Number of jobs that will have career development opportunities and a description of those jobs;

—Number of jobs that will be filled by individuals lifted form AFDC/TANF assistance;

—Number of Self-employed and other ownership opportunities created for low-income residents;

—Annual salary expected for each person employed (net profit after deductions of business expenses for self-employed persons);

—Specific steps to be taken including on-going management support and technical assistance provided by the grantee or a third party of develop and sustain self-employed program participants after their businesses are in place.

Note: OCS will not recognize job equivalents nor job counts based on economic multiplier functions; jobs must be specifically identified.

Other benefits, which might be discussed, are:

Human Development

—New technical skills development and associated career opportunities for community residents;

—Management development and training;

—Benefits of self-sufficient for persons lifted from AFDC/TANF assistance.

Community Development

—Development of community's physical assets;

—Provision of needed, but currently unsupplied, services or products to community;

—Improvement in the living environment.

(l) The Financial Plan: The Financial Plan is basic to the development of a Business Plan. Its purpose is to indicate the project's potential and the timetable for financial self-sufficiency. In developing the Financial Plan, the following exhibits must be prepared for the first three years of the business' operation:

(i) Profit and Loss Forecasts—quarterly for each year;

(ii) Cash Flow Projections—quarterly for each year.

(iii) Pro forma balance sheets—quarterly for each year;

Also, additional financial information for the business operations that must be included are an initial Source and Use of Funds Statement for project funds and a brief summary paragraph discussing any further capital requirements and their sources.

If an applicant is proposing a project which will affect a property listed in, or eligible for inclusion in the National Register of Historic Places, it must identify this property in the narrative and explain how it has complied with the provisions of Section 106 of the National Historic Preservation Act of 1966 as amended. If there is any question as to whether the property is listed or eligible for inclusion in the National Register of Historic Places, the applicant should consult with the State Historic Preservation Officer. (See Attachment D′: SF-424B, Item 13 for additional guidance.) The applicant should contact OCS early in the development of its application for instructions regarding compliance with the Act and data required to be submitted to the Department of Health and Human Services. Failure to comply with the cited Act may result in the application being ineligible for funding consideration.

Applicable to Sub-Priority Area 1.1, 1.2, and 1.4

Applications submitted under Sub-Priority Areas 1.1, 1.2 and 1.4 which propose to use the requested OCS funds to make an equity investment or a loan to a business concern, including a wholly-owned subsidiary, or to make a sub-grant with a portion of OCS funds, must include a written agreement between the community development corporation and the recipient of the grant funds which contains all of the elements listed in Part C under the appropriate Priority Area.

Applicable to Sub-Priority Area 1.5 Only

An applicant in this priority area must document its experience and capability in several of the following areas:

—Business/Development;

—Micro-Entrepreneurship Development;

—Commercial Development;

—Organizaitonal and Staff Development;

—Board Training;

—Business Management, including Strategic Planning and Fiscal Management;

—Finance, including Business Packaging and Financial/Accounting Service, and/or

—Regulatory compliance including Zoning and permit Compliance

—Incubator Development

—Tax Credits and Bond Financing

—Marketing

The applicant must document staff competence or the accessibility of third party resources with proven competence. If the work program requires the significant use of third party (consultant/contractor) resources, those resources should be identified and resumes of the individuals or key organizational staff provided.

Resumes of the applicant's staff, who are to be directly involved in programmatic and administrative expertise sharing, should also be included. The applicant must document successful experience in the mobilization of resources (both cash and in-kind) from private and public sources. The applicant must also clearly state how the information learned from this project may be disseminated to other interested grantees.

Applicable to Sub-Priority Area 1.6 Only

An applicant in this priority area must document its experience and capability in implementing projects national in scope and have significant and relative experiences in working with community development corporations.

The applicant must have the ability to collect and analyze data nationally that may benefit CDCs and be able to disseminate information to all of OCS funding grantees; publish a national directory of funding sources for CDCs (public, corporate, foundation, religious); publish research papers on specific aspects of job creation by CDCs; design and provide information on successful projects and economic niches that CDCs can target. The applicant will also be responsible for the development of instructional programs, national conferences, seminars, and other activities to assist community development corporations; and provide peer-to-peer technical assistance to OCS funded CDCs.

Applicable to Sub-Priority Area 2.1

Each applicant must include a full discussion of how the proposed use of funds will enable low-income rural communities to develop the capability and expertise to establish and maintain affordable, adequate and safe water and waste water systems. Applicants must also discuss how they will disseminate information about water and waste water programs serving rural communities, and how they will better coordinate Federal, State and local water and waste water program financing and development to assure improved service to rural communities.

Among the benefits that merit discussion under this sub-priority area are: The number of rural communities to be provided with technical and advisory services; the number of rural poor individuals who are expected to be directly served by applicant-supported improved water and waste water systems; the decrease in the number of inadequate water systems related to applicant activity; the number of newly-established and applicant-supported treatment systems (all of the above may be expressed in terms of equivalent connection units); the increase in local capacity in engineering and other areas of expertise; and the amount of non-discretionary program dollars expected to be mobilized.

e. Significant and Beneficial Impact and Other Criteria. The project narrative must address the remaining aspects of the project noted in the outline of Part F, “Contents of Application and Receipt Process”, Items V and VI. These include private partnerships and Budget Appropriateness and Reasonableness” areas as well as information to be included in the appendices.

Attachment L.—Table of Standard Industrial Codes and Occupational Classifications

Standard Industrial (SIC) Codes

Agriculture

Mining

Construction

Manufacturing

Transportation, and Public Utilities

Wholesale and Retail Trade

Finance, Insurance and Real Estate Services

Government

Occupational Classifications

Managerial and Professional Specialty Technical sales, and Administrative support (includes technicians and related support, technicians, sales occupations, including clerical)

Precision Production, Craft, and Repair (includes mechanics, repairers, construction trades, crafters)

Operators, fabricators, and Laborers (includes machine operators, assemblers, inspectors, transportation and material moving occupations, handlers, equip cleaners, Helpers, laborers including construction laborers)

Farming, Forestry and Fishing

Source: U.S. Department of Commerce, “Statistical Abstract of the United States, 1996”, Table Nos. 646 and 647. Updated 1998. Table Nos. 679 and 680.

BILLING CODE 4184-01-M

[FR Doc. 00-15061 Filed 6-19-00; 8:45 am]

BILLING CODE 4184-01-P